DEPARTMENT OF THE INTERIOR

Fish and Wildlife Service

50 CFR Part 17

[FWS-R6-ES-2007-0014; 92210-1117-0000-FY08-B4]

RIN 1018-AT79

Endangered and Threatened Wildlife and Plants; Designation of Critical Habitat for the Salt Creek Tiger Beetle (Cicindela nevadica lincolniana)

AGENCY: Fish and Wildlife Service, Interior.

ACTION: Revised proposed rule; reopening of comment period.

SUMMARY: We, the U.S. Fish and Wildlife Service (Service), announce the reopening of the comment period on the proposed rule (72 FR 70715, December 12, 2007) to designate critical habitat for the Salt Creek tiger beetle (Cicindela nevadica lincolniana) under the Endangered Species Act of 1973, as amended (Act). In this document, we are proposing to add a total of 138 acres (ac) (56 hectares (ha)) of critical habitat to three of the four previously proposed units. As a result, our proposed revised critical habitat designation for the species now includes four critical habitat units totaling approximately 1,933 ac (782 ha).

The reopened comment period will provide the interested parties with an opportunity to submit written comments on our proposal to add 138 ac (56 ha), determined to be occupied and essential to the Salt Creek tiger beetle, to the 1,795 ac (726 ha) proposed as critical habitat on December 12, 2007. Comments previously submitted for the proposed critical habitat designation need not be resubmitted; they have already been incorporated into the public record and will be fully considered in any final decision.

DATES: We will consider comments received on or before May 28, 2009.

ADDRESSES: You may submit comments by one of the following methods:

• Federal eRulemaking Portal: http://www.regulations.gov. Follow the instructions for submitting comments.

• U.S. mail or hand-delivery: Public Comments Processing, Attn: FWS-R6-ES-2007-0014; Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information).

FOR FURTHER INFORMATION CONTACT: June DeWeese, Field Supervisor, Nebraska Ecological Services Field Office, Federal Building, Second Floor, 203 West Second Street, Grand Island, NE 68801; telephone (308) 382-6468. If you use a telecommunications device for the deaf (TDD), call the Federal Information Relay Service (FIRS) at 800-877-8339.

SUPPLEMENTARY INFORMATION:

Public Comments

We intend that any final action resulting from the proposed rule will be as accurate and as effective as possible. Therefore, we request comments or information during this reopened comment period on the proposed critical habitat designation published in the Federal Register on December 12, 2007 (72 FR 70715), the draft economic analysis, and draft environmental assessment that were announced in that rule and available to the public at http://www.regulations.gov, and this revision to the proposed rule. We particularly seek comments concerning the proposed revision in this document to add an additional 138 ac (56 ha).

We also seek comments on:

(1) The reasons why we should or should not designate habitat as “critical habitat” under section 4 of the Act (16 U.S.C. 1531 et seq.), including whether the benefit of designation would outweigh any threats to the subspecies caused by designation such that the designation is not prudent;

(2) Specific information on:

• The amount and distribution of Salt Creek tiger beetle habitat;

• What areas occupied at the time of listing and that contain features essential for the conservation of the subspecies we should include in the designation and why; and

• What areas not occupied at the time of listing are essential to the conservation of the subspecies and why;

(3) Land use designations and current or planned activities in the subject areas and their possible impacts on proposed critical habitat;

(4) Any foreseeable economic, national security, or other relevant impacts resulting from the proposed designation and, in particular, any impacts on small entities;

(5) Economic data on the incremental costs of designating any particular area as Salt Creek tiger beetle critical habitat; and

(6) Whether we could improve or modify our approach to designating critical habitat in any way to provide for greater public participation and understanding, or to better accommodate public concerns and comments.

Previously submitted comments for the proposed rule need not be resubmitted. You may submit your comments and materials concerning this proposed rule by one of the methods listed in the ADDRESSES section. We will not accept comments sent by e-mail or fax or to an address not listed in the ADDRESSES section. If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this proposed rule, will be available for public inspection on http://www.regulations.gov, or by appointment, during normal business hours, at the U.S. Fish and Wildlife Service, Nebraska Ecological Services Field Office (see FOR FURTHER INFORMATION CONTACT).

Previous Federal Actions

We published a final rule to list the Salt Creek tiger beetle as endangered on October 6, 2005 (70 FR 58335). Critical habitat was not designated at the time of listing because we were in the process of identifying the physical and biological features essential to the conservation of the Salt Creek tiger beetle. On December 12, 2007, we published a proposed rule to designate approximately 1,795 ac (727 ha) of land in portions of Lancaster and Saunders Counties, Nebraska, as critical habitat, and announced the availability of a draft economic analysis and draft environmental assessment (72 FR 70715). The original comment period on the Salt Creek tiger beetle proposed critical habitat rule closed on February 11, 2008. On June 3, 2008, we reopened the comment period on the proposed rule until July 11, 2008, and announced that we would hold a public hearing on July 1, 2008 (73 FR 31665).

Proposed Change to Boundaries of Salt Creek Tiger Beetle Units 1, 2, and 3

With this document, we are advising the public of new proposed revisions to three of the four units described in our original proposed critical habitat designation (72 FR 70715; December 12, 2007). In our December 12, 2007, proposal, approximately 1,795 ac (726 ha) were within the boundaries of the designation. We received information during the public comment periods, from peer reviewers and others, on the proposed critical habitat designation describing occupied acres adjacent to proposed critical habitat units. We assessed areas presented for consideration, and determined that 138 ac (56 ha) are essential to the conservation of the species because they are currently occupied and contain the primary constituent elements, which are described in our December 12, 2007, proposal (72 FR 70715). Adding these acres will fulfill three functions: (1) Provide for the varied habitat needs of the species, (2) help ensure that some habitat is available if flood events cause these habitats to shift locations along Little Salt Creek, and (3) provide a movement corridor between the critical habitat units on Little Salt Creek.

We determined that adding the 138 ac (56 ha) to critical habitat Units 1—Upper Little Salt Creek North, 2—Little Salt Creek Arbor Lake, and 3—Little Salt Creek Roper is supported by the best available scientific information. The addition of these acres would result in a final designation of 1,933 ac (782 ha), of which 583 ac (236 ha) are State-owned and 1,350 ac (546 ha) are privately owned.

The additional 138 ac (44 ac (18 ha) State; 94 ac (38 ha) private) are identified by crosshatch on the two figures delineating proposed critical habitat included below. All acres in the proposed critical habitat, including the additional acres, are located in Lancaster and Saunders Counties, Nebraska. Three public and six private landowners are represented by the additional 138 ac, all of whom own parcels that we included in our proposed critical habitat (72 FR 70715; December 12, 2007).

BILLING CODE 4310-55-P

BILLING CODE 4310-55-C

The additional acres encompass Little Salt Creek and adjacent habitat assessed in the draft economic analysis as buffer habitat. The economics related to the additional acres will be discussed in the final economic analysis for the Salt Creek tiger beetle's critical habitat designation.

Required Determinations

In our December 12, 2007, proposed rule (72 FR 70715), we made use of a draft economic analysis and environmental assessment in making our determinations of compliance with several statutes and Executive Orders including Executive Order (E.O.) 12866 (Regulatory Planning and Review), the Regulatory Flexibility Act (5 U.S.C. 601 et seq.), the Small Business Regulatory Enforcement Fairness Act (5 U.S.C. 801 et seq.), E.O. 12630 (Takings), E.O. 13132 (Federalism), E.O. 12988 (Civil Justice Reform), E.O. 13211 (Energy, Supply, Distribution, and Use), the Unfunded Mandates Reform Act (2 U.S.C. 1501 et seq.), the Paperwork Reduction Act (44 U.S.C. 3501 et seq.), the National Environmental Policy Act (42 U.S.C. 4321 et seq.), and the President's memorandum of April 29, 1994, “Government-to-Government Relations with Native American Tribal Governments” (59 FR 22951). Please refer to the proposed rule and our draft economic analysis of the proposed critical habitat designation for detailed discussions of required determinations and potential economic impacts. The economics related to the additional acres will be discussed in the final economic analysis, and, if we adopt a final rule for this action, we will confirm our required determinations in that final rule to designate critical habitat for the Salt Creek tiger beetle.

Author(s)

The authors of this document are the staff members of the Nebraska Ecological Services Field Office (see FOR FURTHER INFORMATION CONTACT).

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 72 FR 70715, December 12, 2007, as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Critical habitat for the Salt Creek tiger beetle in § 17.95, which was proposed to be added to paragraph (i) on December 12, 2007, at 72 FR 70715, is proposed to be amended by revising paragraphs (5), (6), (7), and (8) in the entry for “Salt Creek Tiger Beetle (Cicindela nevadica lincolniana)” to read as follows:

§ 17.95 Critical habitat—fish and wildlife.

* * * * *

(i) Insects.

* * * * *

Salt Creek Tiger Beetle (Cicindela nevadica lincolniana)

* * * * *

(5) Note: Map 1 (index map) follows:

(6) Unit 1: Upper Little Salt Creek North, Lancaster County, Nebraska.

(i) Tract 1a: 692489, 4536054; 692486, 4536053; 692479, 4536054; 692476, 4536059; 692474, 4536062; 692471, 4536063; 692466, 4536064; 692464, 4536067; 692463, 4536072; 692464, 4536076; 692465, 4536079; 692468, 4536080; 692471, 4536081; 692475, 4536082; 692485, 4536083; 692494, 4536069; 692495, 4536064; 692495, 4536062; 692493, 4536057; 692489, 4536054.

(ii) Tract 1b: 691216, 4538366; 691216, 4538366; 691216, 4538366; 691216, 4538366; 691217, 4538375; 691222, 4538376; 691225, 4538377; 691229, 4538381; 691230, 4538384; 691232, 4538389; 691231, 4538394; 691231, 4538399; 691230, 4538404; 691229, 4538408; 691226, 4538412; 691224, 4538415; 691221, 4538418; 691216, 4538420; 691214, 4538420; 691212, 4538419; 691209, 4538418; 691201, 4538419; 691204, 4538432; 691205, 4538438; 691206, 4538444; 691207, 4538449; 691210, 4538460; 691213, 4538465; 691220, 4538467; 691224, 4538466; 691227, 4538461; 691229, 4538455; 691234, 4538451; 691241, 4538452; 691248, 4538455; 691255, 4538458; 691262, 4538458; 691264, 4538451; 691265, 4538442; 691262, 4538431; 691257, 4538418; 691256, 4538405; 691257, 4538394; 691258, 4538384; 691256, 4538379; 691251, 4538371; 691244, 4538366; 691236, 4538364; 691229, 4538364; 691219, 4538366; 691217, 4538364; 691231, 4538347; 691235, 4538342; 691241, 4538334; 691244, 4538328; 691246, 4538323; 691248, 4538317; 691250, 4538311; 691252, 4538306; 691253, 4538302; 691255, 4538297; 691255, 4538294; 691264, 4538279; 691262, 4538279; 691188, 4538214; 691189, 4538210; 691194, 4538199; 691201, 4538189; 691208, 4538181; 691215, 4538174; 691221, 4538167; 691226, 4538162; 691231, 4538154; 691237, 4538147; 691240, 4538143; 691242, 4538138; 691244, 4538135; 691243, 4538122; 691242, 4538107; 691240, 4538097; 691236, 4538087; 691234, 4538081; 691234, 4538075; 691236, 4538061; 691240, 4538050; 691245, 4538042; 691253, 4538029; 691259, 4538018; 691268, 4538007; 691276, 4537998; 691281, 4537992; 691288, 4537983; 691291, 4537975; 691295, 4537967; 691297, 4537958; 691300, 4537948; 691302, 4537937; 691305, 4537928; 691306, 4537923; 691308, 4537920; 691310, 4537917; 691314, 4537915; 691318, 4537914; 691320, 4537914; 691322, 4537915; 691324, 4537915; 691332, 4537900; 691337, 4537891; 691341, 4537883; 691344, 4537879; 691349, 4537871; 691353, 4537864; 691356, 4537859; 691357, 4537856; 691359, 4537850; 691361, 4537845; 691363, 4537840; 691364, 4537837; 691365, 4537830; 691378, 4537824; 691384, 4537822; 691395, 4537823; 691405, 4537824; 691412, 4537826; 691415, 4537828; 691416, 4537832; 691417, 4537834; 691419, 4537835; 691422, 4537836; 691423, 4537836; 691425, 4537835; 691430, 4537849; 691432, 4537852; 691435, 4537854; 691439, 4537857; 691444, 4537857; 691449, 4537854; 691454, 4537848; 691456, 4537842; 691460, 4537835; 691468, 4537827; 691475, 4537836; 691478, 4537839; 691483, 4537839; 691490, 4537837; 691494, 4537833; 691499, 4537828; 691505, 4537821; 691511, 4537812; 691515, 4537804; 691519, 4537789; 691521, 4537780; 691522, 4537772; 691521, 4537765; 691519, 4537759; 691519, 4537755; 691520, 4537752; 691522, 4537750; 691526, 4537748; 691528, 4537746; 691530, 4537743; 691532, 4537739; 691532, 4537732; 691543, 4537717; 691550, 4537706; 691561, 4537690; 691571, 4537679; 691577, 4537672; 691585, 4537663; 691591, 4537658; 691597, 4537653; 691602, 4537646; 691607, 4537633; 691610, 4537621; 691612, 4537609; 691611, 4537599; 691612, 4537588; 691613, 4537576; 691614, 4537563; 691616, 4537551; 691618, 4537540; 691621, 4537530; 691625, 4537514; 691630, 4537497; 691635, 4537484; 691641, 4537472; 691645, 4537460; 691651, 4537449; 691659, 4537438; 691666, 4537430; 691682, 4537419; 691687, 4537415; 691692, 4537405; 691698, 4537398; 691710, 4537388; 691714, 4537384; 691723, 4537377; 691729, 4537370; 691734, 4537362; 691743, 4537327; 691745, 4537316; 691747, 4537304; 691749, 4537298; 691751, 4537284; 691753, 4537275; 691755, 4537267; 691759, 4537254; 691762, 4537244; 691764, 4537236; 691765, 4537230; 691767, 4537224; 691767, 4537218; 691767, 4537215; 691768, 4537209; 691759, 4537194; 691758, 4537188; 691761, 4537175; 691764, 4537164; 691766, 4537151; 691767, 4537136; 691767, 4537121; 691769, 4537110; 691771, 4537094; 691772, 4537082; 691772, 4537071; 691774, 4537065; 691779, 4537058; 691785, 4537053; 691794, 4537047; 691798, 4537040; 691801, 4537029; 691800, 4537019; 691798, 4537009; 691796, 4536995; 691798, 4536979; 691800, 4536965; 691804, 4536953; 691810, 4536944; 691819, 4536938; 691827, 4536934; 691835, 4536927; 691840, 4536915; 691844, 4536902; 691847, 4536890; 691852, 4536878; 691860, 4536865; 691869, 4536859; 691875, 4536855; 691883, 4536852; 691890, 4536851; 691895, 4536851; 691897, 4536679; 691851, 4536677; 691863, 4536657; 691865, 4536656; 691867, 4536655; 691870, 4536655; 691901, 4536654; 691902, 4536607; 691926, 4536599; 691925, 4536654; 692006, 4536656; 692010, 4536647; 692015, 4536642; 692020, 4536639; 692024, 4536633; 692027, 4536623; 692029, 4536614; 692035, 4536598; 692040, 4536587; 692047, 4536579; 692055, 4536570; 692061, 4536561; 692071, 4536551; 692077, 4536544; 692082, 4536539; 692086, 4536536; 692093, 4536538; 692097, 4536542; 692099, 4536548; 692102, 4536554; 692104, 4536559; 692105, 4536564; 692107, 4536567; 692108, 4536569; 692109, 4536569; 692107, 4536589; 692106, 4536596; 692106, 4536606; 692105, 4536613; 692107, 4536624; 692108, 4536634; 692110, 4536641; 692112, 4536646; 692114, 4536650; 692118, 4536653; 692122, 4536655; 692129, 4536657; 692136, 4536657; 692141, 4536655; 692146, 4536652; 692150, 4536647; 692150, 4536638; 692150, 4536627; 692150, 4536619; 692149, 4536611; 692147, 4536599; 692144, 4536591; 692143, 4536583; 692142, 4536578; 692138, 4536568; 692146, 4536559; 692146, 4536555; 692150, 4536543; 692150, 4536537; 692149, 4536533; 692147, 4536527; 692145, 4536518; 692143, 4536508; 692145, 4536500; 692149, 4536493; 692156, 4536488; 692159, 4536485; 692164, 4536480; 692167, 4536475; 692169, 4536467; 692168, 4536457; 692165, 4536448; 692162, 4536440; 692159, 4536433; 692157, 4536427; 692158, 4536418; 692161, 4536408; 692167, 4536398; 692173, 4536390; 692183, 4536385; 692191, 4536382; 692195, 4536377; 692197, 4536371; 692197, 4536364; 692194, 4536357; 692189, 4536351; 692182, 4536345; 692179, 4536342; 692170, 4536335; 692166, 4536332; 692158, 4536326; 692162, 4536314; 692162, 4536311; 692163, 4536309; 692174, 4536308; 692180, 4536304; 692185, 4536299; 692189, 4536290; 692193, 4536280; 692197, 4536273; 692204, 4536268; 692214, 4536264; 692225, 4536263; 692230, 4536264; 692237, 4536268; 692245, 4536271; 692254, 4536270; 692265, 4536266; 692272, 4536260; 692278, 4536254; 692284, 4536246; 692290, 4536239; 692294, 4536233; 692297, 4536226; 692300, 4536216; 692301, 4536209; 692303, 4536202; 692307, 4536191; 692316, 4536176; 692319, 4536172; 692321, 4536168; 692326, 4536163; 692333, 4536158; 692342, 4536155; 692350, 4536153; 692361, 4536152; 692369, 4536150; 692378, 4536147; 692387, 4536143; 692394, 4536139; 692400, 4536135; 692407, 4536132; 692415, 4536131; 692421, 4536130; 692425, 4536130; 692435, 4536134; 692442, 4536142; 692445, 4536151; 692446, 4536160; 692448, 4536169; 692451, 4536181; 692456, 4536192; 692462, 4536202; 692470, 4536214; 692476, 4536225; 692482, 4536233; 692487, 4536240; 692493, 4536246; 692497, 4536249; 692504, 4536251; 692514, 4536252; 692524, 4536251; 692534, 4536249; 692544, 4536248; 692554, 4536245; 692563, 4536243; 692570, 4536241; 692575, 4536239; 692580, 4536237; 692584, 4536235; 692587, 4536233; 692587, 4536232; 692609, 4536242; 692618, 4536262; 692623, 4536267; 692627, 4536272; 692631, 4536276; 692638, 4536278; 692649, 4536280; 692668, 4536284; 692675, 4536285; 692682, 4536284; 692686, 4536284; 692688, 4536282; 692692, 4536280; 692698, 4536274; 692693, 4536246; 692691, 4536238; 692685, 4536228; 692682, 4536220; 692679, 4536214; 692675, 4536210; 692671, 4536204; 692667, 4536199; 692663, 4536194; 692658, 4536192; 692656, 4536192; 692637, 4536160; 692639, 4536159; 692645, 4536156; 692649, 4536153; 692654, 4536143; 692658, 4536135; 692662, 4536125; 692665, 4536115; 692669, 4536100; 692671, 4536088; 692673, 4536072; 692674, 4536057; 692674, 4536048; 692671, 4536039; 692669, 4536033; 692668, 4536026; 692670, 4536014; 692676, 4536005; 692684, 4535997; 692692, 4535990; 692699, 4535984; 692707, 4535977; 692712, 4535971; 692718, 4535958; 692721, 4535945; 692723, 4535933; 692725, 4535924; 692729, 4535913; 692735, 4535907; 692742, 4535903; 692749, 4535899; 692754, 4535893; 692759, 4535882; 692760, 4535871; 692759, 4535860; 692763, 4535846; 692767, 4535839; 692771, 4535833; 692773, 4535825; 692774, 4535809; 692774, 4535793; 692772, 4535781; 692771, 4535770; 692770, 4535759; 692770, 4535750; 692770, 4535737; 692772, 4535728; 692775, 4535719; 692790, 4535682; 692799, 4535665; 692805, 4535654; 692812, 4535639; 692818, 4535625; 692823, 4535615; 692830, 4535605; 692836, 4535596; 692843, 4535584; 692846, 4535575; 692849, 4535563; 692854, 4535548; 692856, 4535532; 692859, 4535516; 692861, 4535505; 692864, 4535488; 692868, 4535473; 692872, 4535461; 692876, 4535448; 692877, 4535436; 692879, 4535425; 692881, 4535413; 692883, 4535399; 692885, 4535384; 692885, 4535371; 692884, 4535360; 692884, 4535354; 692884, 4535344; 692879, 4535340; 692869, 4535358; 692864, 4535365; 692854, 4535373; 692845, 4535377; 692834, 4535379; 692823, 4535381; 692810, 4535381; 692797, 4535378; 692787, 4535377; 692773, 4535378; 692759, 4535380; 692744, 4535382; 692734, 4535384; 692724, 4535388; 692716, 4535392; 692708, 4535399; 692703, 4535407; 692701, 4535413; 692700, 4535419; 692700, 4535424; 692699, 4535429; 692684, 4535431; 692680, 4535432; 692676, 4535434; 692671, 4535437; 692667, 4535439; 692662, 4535440; 692657, 4535441; 692652, 4535442; 692645, 4535442; 692643, 4535440; 692642, 4535434; 692644, 4535421; 692651, 4535411; 692656, 4535405; 692660, 4535399; 692663, 4535392; 692664, 4535387; 692663, 4535383; 692656, 4535377; 692648, 4535375; 692645, 4535369; 692647, 4535358; 692651, 4535345; 692659, 4535334; 692668, 4535325; 692672, 4535322; 692678, 4535317; 692680, 4535309; 692680, 4535303; 692681, 4535294; 692682, 4535286; 692686, 4535279; 692689, 4535274; 692697, 4535270; 692705, 4535269; 692716, 4535273; 692724, 4535279; 692730, 4535286; 692736, 4535296; 692740, 4535302; 692744, 4535308; 692751, 4535313; 692761, 4535317; 692766, 4535317; 692774, 4535315; 692782, 4535310; 692788, 4535305; 692794, 4535296; 692797, 4535289; 692801, 4535285; 692810, 4535282; 692817, 4535281; 692821, 4535279; 692825, 4535275; 692828, 4535267; 692829, 4535258; 692827, 4535249; 692824, 4535243; 692820, 4535236; 692820, 4535229; 692823, 4535215; 692825, 4535207; 692829, 4535196; 692831, 4535191; 692833, 4535182; 692832, 4535178; 692833, 4535173; 692835, 4535166; 692827, 4535159; 692826, 4535156; 692826, 4535153; 692826, 4535147; 692827, 4535143; 692827, 4535137; 692845, 4535142; 692850, 4535145; 692854, 4535148; 692858, 4535152; 692862, 4535155; 692870, 4535161; 692878, 4535164; 692883, 4535166; 692891, 4535167; 692897, 4535169; 692904, 4535169; 692910, 4535170; 692915, 4535169; 692919, 4535166; 692926, 4535163; 692930, 4535162; 692934, 4535162; 692938, 4535163; 692940, 4535166; 692948, 4535175; 692958, 4535168; 692965, 4535164; 692971, 4535160; 692977, 4535158; 692981, 4535156; 692984, 4535156; 692987, 4535156; 692989, 4535154; 692981, 4535147; 692975, 4535144; 692968, 4535140; 692963, 4535136; 692959, 4535133; 692956, 4535131; 692953, 4535128; 692952, 4535127; 692950, 4535125; 692948, 4535123; 692947, 4535121; 692945, 4535118; 692828, 4535116; 692744, 4535111; 692741, 4535111; 692741, 4535110; 692738, 4535113; 692735, 4535116; 692735, 4535120; 692734, 4535123; 692734, 4535126; 692730, 4535140; 692729, 4535144; 692725, 4535148; 692720, 4535156; 692714, 4535164; 692705, 4535170; 692695, 4535174; 692683, 4535175; 692670, 4535177; 692658, 4535181; 692648, 4535183; 692641, 4535186; 692632, 4535189; 692625, 4535192; 692618, 4535193; 692613, 4535194; 692607, 4535197; 692602, 4535201; 692599, 4535207; 692599, 4535213; 692598, 4535217; 692598, 4535218; 692604, 4535224; 692612, 4535226; 692618, 4535227; 692628, 4535228; 692637, 4535232; 692644, 4535236; 692650, 4535241; 692654, 4535248; 692655, 4535255; 692652, 4535265; 692650, 4535277; 692643, 4535290; 692637, 4535301; 692632, 4535311; 692625, 4535324; 692616, 4535334; 692609, 4535342; 692599, 4535351; 692592, 4535361; 692574, 4535375; 692569, 4535378; 692561, 4535382; 692556, 4535384; 692549, 4535387; 692545, 4535388; 692539, 4535391; 692537, 4535394; 692536, 4535398; 692537, 4535401; 692542, 4535404; 692550, 4535405; 692559, 4535405; 692567, 4535408; 692576, 4535414; 692583, 4535422; 692588, 4535434; 692592, 4535446; 692592, 4535453; 692592, 4535465; 692594, 4535478; 692597, 4535496; 692597, 4535509; 692595, 4535527; 692592, 4535540; 692587, 4535552; 692582, 4535560; 692578, 4535566; 692571, 4535578; 692568, 4535585; 692564, 4535595; 692562, 4535602; 692561, 4535607; 692562, 4535614; 692565, 4535619; 692569, 4535623; 692572, 4535626; 692577, 4535630; 692578, 4535631; 692568, 4535638; 692560, 4535643; 692554, 4535647; 692549, 4535651; 692545, 4535654; 692540, 4535657; 692538, 4535658; 692534, 4535665; 692520, 4535671; 692518, 4535674; 692515, 4535680; 692515, 4535688; 692514, 4535695; 692515, 4535701; 692515, 4535705; 692516, 4535716; 692537, 4535713; 692541, 4535712; 692548, 4535711; 692551, 4535710; 692554, 4535710; 692558, 4535710; 692570, 4535711; 692580, 4535724; 692583, 4535726; 692585, 4535729; 692585, 4535733; 692582, 4535741; 692567, 4535747; 692547, 4535749; 692540, 4535749; 692532, 4535749; 692528, 4535750; 692519, 4535750; 692514, 4535763; 692513, 4535766; 692512, 4535771; 692503, 4535789; 692500, 4535795; 692493, 4535804; 692489, 4535810; 692483, 4535817; 692479, 4535824; 692475, 4535831; 692469, 4535840; 692467, 4535847; 692464, 4535855; 692463, 4535861; 692459, 4535873; 692470, 4535884; 692472, 4535886; 692475, 4535888; 692480, 4535888; 692484, 4535886; 692487, 4535882; 692489, 4535879; 692493, 4535872; 692496, 4535866; 692499, 4535863; 692500, 4535861; 692505, 4535861; 692509, 4535866; 692511, 4535875; 692511, 4535881; 692511, 4535887; 692511, 4535900; 692521, 4535893; 692528, 4535892; 692537, 4535892; 692544, 4535893; 692555, 4535895; 692563, 4535898; 692572, 4535902; 692580, 4535905; 692586, 4535908; 692592, 4535911; 692598, 4535915; 692601, 4535918; 692603, 4535923; 692602, 4535927; 692597, 4535934; 692587, 4535936; 692577, 4535938; 692572, 4535940; 692565, 4535948; 692559, 4535953; 692557, 4535961; 692557, 4535972; 692560, 4535985; 692562, 4535991; 692564, 4535998; 692565, 4536002; 692565, 4536004; 692565, 4536006; 692579, 4536010; 692582, 4536011; 692586, 4536014; 692588, 4536018; 692589, 4536024; 692588, 4536029; 692585, 4536037; 692579, 4536046; 692572, 4536056; 692567, 4536064; 692561, 4536071; 692556, 4536076; 692551, 4536080; 692547, 4536083; 692542, 4536087; 692539, 4536092; 692538, 4536096; 692538, 4536104; 692538, 4536107; 692543, 4536112; 692537, 4536127; 692537, 4536131; 692539, 4536137; 692544, 4536142; 692551, 4536149; 692556, 4536153; 692562, 4536156; 692567, 4536159; 692571, 4536162; 692573, 4536163; 692575, 4536163; 692576, 4536168; 692576, 4536185; 692561, 4536183; 692553, 4536182; 692544, 4536183; 692539, 4536184; 692532, 4536184; 692525, 4536180; 692521, 4536174; 692518, 4536164; 692516, 4536155; 692513, 4536146; 692505, 4536135; 692495, 4536126; 692483, 4536114; 692474, 4536106; 692465, 4536100; 692458, 4536096; 692448, 4536091; 692440, 4536089; 692430, 4536087; 692420, 4536088; 692412, 4536089; 692408, 4536090; 692403, 4536091; 692401, 4536088; 692399, 4536081; 692399, 4536073; 692394, 4536065; 692388, 4536060; 692387, 4536057; 692383, 4536053; 692368, 4536058; 692362, 4536059; 692355, 4536060; 692344, 4536058; 692331, 4536054; 692323, 4536050; 692316, 4536047; 692309, 4536043; 692301, 4536041; 692292, 4536043; 692280, 4536047; 692263, 4536058; 692254, 4536064; 692248, 4536069; 692246, 4536071; 692244, 4536075; 692243, 4536085; 692244, 4536094; 692246, 4536103; 692247, 4536112; 692248, 4536125; 692246, 4536137; 692243, 4536151; 692239, 4536165; 692234, 4536171; 692227, 4536174; 692216, 4536174; 692207, 4536172; 692197, 4536169; 692188, 4536167; 692182, 4536166; 692177, 4536167; 692173, 4536168; 692170, 4536170; 692165, 4536173; 692162, 4536168; 692159, 4536165; 692148, 4536154; 692143, 4536141; 692141, 4536135; 692140, 4536126; 692138, 4536116; 692137, 4536108; 692136, 4536104; 692142, 4536065; 692149, 4536061; 692154, 4536061; 692162, 4536062; 692173, 4536063; 692182, 4536067; 692187, 4536073; 692191, 4536077; 692198, 4536078; 692206, 4536076; 692209, 4536073; 692211, 4536067; 692212, 4536059; 692212, 4536050; 692212, 4536038; 692213, 4536026; 692215, 4536019; 692220, 4536013; 692232, 4536009; 692244, 4536008; 692253, 4536010; 692263, 4536013; 692273, 4536013; 692281, 4536012; 692288, 4536007; 692291, 4536001; 692295, 4535995; 692299, 4535988; 692306, 4535980; 692315, 4535973; 692327, 4535967; 692339, 4535963; 692349, 4535963; 692352, 4535965; 692360, 4535965; 692366, 4535964; 692369, 4535961; 692370, 4535955; 692369, 4535950; 692366, 4535944; 692364, 4535941; 692359, 4535936; 692354, 4535930; 692349, 4535928; 692338, 4535925; 692330, 4535925; 692323, 4535927; 692316, 4535931; 692311, 4535935; 692307, 4535940; 692304, 4535946; 692300, 4535953; 692295, 4535959; 692288, 4535963; 692281, 4535965; 692274, 4535966; 692264, 4535966; 692252, 4535967; 692243, 4535967; 692236, 4535969; 692230, 4535973; 692218, 4535981; 692210, 4535981; 692206, 4535984; 692202, 4535986; 692198, 4535989; 692192, 4535995; 692186, 4535999; 692181, 4536003; 692172, 4536006; 692165, 4536009; 692157, 4536011; 692147, 4536014; 692137, 4536020; 692133, 4536025; 692129, 4536031; 692129, 4536032; 692087, 4536080; 692086, 4536081; 692082, 4536085; 692078, 4536093; 692074, 4536101; 692071, 4536106; 692069, 4536112; 692059, 4536124; 692050, 4536143; 692046, 4536150; 692040, 4536157; 692037, 4536160; 692034, 4536164; 692029, 4536167; 692025, 4536169; 692023, 4536169; 692020, 4536169; 692004, 4536172; 691997, 4536173; 691997, 4536173; 691900, 4536175; 691899, 4536174; 691897, 4536174; 691895, 4536172; 691892, 4536169; 691886, 4536163; 691880, 4536156; 691873, 4536150; 691864, 4536141; 691854, 4536135; 691845, 4536130; 691836, 4536124; 691827, 4536117; 691821, 4536107; 691819, 4536098; 691815, 4536087; 691811, 4536078; 691807, 4536072; 691801, 4536068; 691789, 4536063; 691785, 4536064; 691779, 4536064; 691769, 4536065; 691766, 4536048; 691765, 4536041; 691760, 4536033; 691755, 4536029; 691748, 4536026; 691739, 4536024; 691729, 4536024; 691717, 4536025; 691711, 4536027; 691710, 4536027; 691704, 4536032; 691698, 4536039; 691695, 4536045; 691694, 4536054; 691693, 4536065; 691693, 4536076; 691693, 4536084; 691694, 4536090; 691698, 4536095; 691700, 4536099; 691707, 4536102; 691717, 4536104; 691717, 4536105; 691718, 4536108; 691718, 4536114; 691719, 4536119; 691718, 4536127; 691718, 4536135; 691718, 4536141; 691717, 4536153; 691714, 4536162; 691713, 4536171; 691711, 4536180; 691709, 4536191; 691706, 4536201; 691702, 4536212; 691701, 4536224; 691702, 4536235; 691704, 4536243; 691709, 4536247; 691716, 4536251; 691722, 4536251; 691730, 4536250; 691737, 4536246; 691744, 4536244; 691752, 4536237; 691755, 4536233; 691758, 4536229; 691760, 4536225; 691763, 4536223; 691768, 4536220; 691780, 4536220; 691791, 4536219; 691800, 4536220; 691807, 4536220; 691815, 4536221; 691816, 4536222; 691823, 4536224; 691832, 4536230; 691837, 4536237; 691838, 4536238; 691841, 4536238; 691858, 4536248; 691879, 4536269; 691888, 4536284; 691890, 4536284; 691949, 4536311; 691950, 4536312; 691957, 4536315; 691963, 4536318; 691967, 4536320; 691971, 4536325; 691974, 4536329; 691975, 4536334; 691977, 4536342; 691981, 4536351; 691984, 4536354; 691989, 4536357; 691995, 4536358; 691998, 4536357; 692004, 4536354; 692006, 4536349; 692007, 4536344; 692007, 4536336; 692007, 4536328; 692008, 4536318; 692009, 4536312; 692013, 4536302; 692020, 4536295; 692028, 4536291; 692039, 4536288; 692048, 4536289; 692058, 4536290; 692067, 4536291; 692075, 4536293; 692080, 4536297; 692083, 4536301; 692084, 4536304; 692084, 4536311; 692082, 4536319; 692074, 4536327; 692069, 4536332; 692064, 4536336; 692056, 4536343; 692054, 4536346; 692053, 4536352; 692054, 4536357; 691999, 4536379; 691820, 4536407; 691708, 4536428; 691599, 4536568; 691581, 4536673; 691556, 4536672; 691543, 4536678; 691540, 4536680; 691534, 4536686; 691526, 4536694; 691522, 4536700; 691520, 4536705; 691517, 4536711; 691515, 4536715; 691513, 4536721; 691512, 4536724; 691512, 4536732; 691520, 4536738; 691520, 4536741; 691519, 4536745; 691520, 4536753; 691519, 4536760; 691514, 4536771; 691511, 4536774; 691501, 4536779; 691492, 4536781; 691486, 4536782; 691475, 4536781; 691459, 4536779; 691443, 4536778; 691426, 4536782; 691414, 4536787; 691404, 4536795; 691398, 4536806; 691395, 4536815; 691396, 4536826; 691399, 4536835; 691404, 4536841; 691412, 4536843; 691418, 4536844; 691430, 4536841; 691438, 4536839; 691447, 4536834; 691457, 4536828; 691467, 4536820; 691478, 4536814; 691489, 4536814; 691500, 4536823; 691505, 4536838; 691505, 4536847; 691503, 4536856; 691500, 4536865; 691499, 4536877; 691501, 4536889; 691505, 4536902; 691509, 4536915; 691515, 4536942; 691518, 4536946; 691528, 4536952; 691547, 4536971; 691540, 4536973; 691538, 4536976; 691534, 4536980; 691530, 4536986; 691525, 4536990; 691518, 4536997; 691513, 4537000; 691490, 4537017; 691480, 4537031; 691475, 4537038; 691469, 4537046; 691463, 4537054; 691459, 4537062; 691455, 4537066; 691451, 4537072; 691451, 4537074; 691448, 4537078; 691446, 4537080; 691442, 4537084; 691439, 4537089; 691426, 4537079; 691417, 4537075; 691414, 4537073; 691408, 4537074; 691401, 4537081; 691398, 4537084; 691394, 4537087; 691387, 4537090; 691382, 4537089; 691377, 4537084; 691371, 4537076; 691363, 4537068; 691354, 4537065; 691345, 4537066; 691336, 4537069; 691331, 4537074; 691326, 4537079; 691322, 4537082; 691316, 4537084; 691307, 4537084; 691304, 4537100; 691301, 4537108; 691294, 4537115; 691288, 4537123; 691284, 4537126; 691274, 4537131; 691263, 4537135; 691247, 4537139; 691234, 4537143; 691221, 4537144; 691209, 4537145; 691199, 4537150; 691186, 4537161; 691176, 4537169; 691169, 4537176; 691163, 4537181; 691156, 4537187; 691151, 4537191; 691144, 4537195; 691138, 4537197; 691133, 4537197; 691123, 4537193; 691110, 4537184; 691095, 4537174; 691080, 4537168; 691067, 4537164; 691056, 4537162; 691045, 4537161; 691034, 4537165; 691020, 4537175; 691002, 4537190; 690991, 4537196; 690979, 4537205; 690971, 4537211; 690966, 4537214; 690958, 4537217; 690954, 4537216; 690946, 4537216; 690934, 4537215; 690920, 4537215; 690909, 4537214; 690899, 4537214; 690897, 4537214; 690894, 4537212; 690867, 4537205; 690857, 4537203; 690850, 4537204; 690842, 4537204; 690833, 4537205; 690825, 4537205; 690819, 4537204; 690812, 4537203; 690811, 4537203; 690800, 4537202; 690784, 4537198; 690775, 4537194; 690768, 4537190; 690761, 4537186; 690751, 4537183; 690740, 4537183; 690731, 4537187; 690723, 4537192; 690717, 4537198; 690711, 4537207; 690703, 4537215; 690696, 4537224; 690687, 4537233; 690679, 4537240; 690673, 4537246; 690669, 4537251; 690666, 4537255; 690664, 4537259; 690662, 4537261; 690657, 4537273; 690653, 4537276; 690651, 4537277; 690650, 4537279; 690647, 4537280; 690632, 4537292; 690629, 4537294; 690622, 4537301; 690613, 4537310; 690608, 4537316; 690602, 4537322; 690598, 4537325; 690595, 4537328; 690592, 4537332; 690590, 4537333; 690588, 4537334; 690584, 4537336; 690577, 4537335; 690561, 4537340; 690555, 4537339; 690547, 4537338; 690541, 4537335; 690536, 4537333; 690529, 4537332; 690521, 4537335; 690513, 4537339; 690505, 4537346; 690498, 4537351; 690491, 4537358; 690484, 4537361; 690478, 4537364; 690473, 4537367; 690467, 4537369; 690464, 4537371; 690451, 4537378; 690444, 4537381; 690435, 4537381; 690427, 4537379; 690413, 4537376; 690406, 4537378; 690398, 4537380; 690389, 4537386; 690381, 4537392; 690374, 4537398; 690371, 4537401; 690359, 4537409; 690355, 4537412; 690341, 4537411; 690329, 4537411; 690319, 4537415; 690311, 4537419; 690305, 4537420; 690299, 4537422; 690298, 4537424; 690297, 4537426; 690270, 4537435; 690270, 4537434; 690254, 4537440; 690243, 4537444; 690228, 4537449; 690221, 4537451; 690214, 4537455; 690211, 4537458; 690204, 4537464; 690201, 4537468; 690201, 4537470; 690194, 4537476; 690192, 4537479; 690190, 4537486; 690186, 4537503; 690184, 4537515; 690181, 4537531; 690178, 4537541; 690175, 4537550; 690173, 4537555; 690174, 4537560; 690175, 4537563; 690178, 4537565; 690178, 4537565; 690174, 4537569; 690173, 4537579; 690174, 4537589; 690173, 4537601; 690172, 4537610; 690171, 4537623; 690168, 4537635; 690166, 4537643; 690162, 4537651; 690154, 4537659; 690147, 4537669; 690144, 4537680; 690144, 4537686; 690145, 4537694; 690154, 4537711; 690155, 4537711; 690164, 4537754; 690163, 4537758; 690165, 4537769; 690168, 4537778; 690175, 4537794; 690181, 4537804; 690191, 4537816; 690198, 4537823; 690203, 4537828; 690208, 4537834; 690209, 4537835; 690209, 4537838; 690209, 4537842; 690207, 4537846; 690204, 4537849; 690195, 4537848; 690186, 4537846; 690172, 4537845; 690167, 4537844; 690161, 4537846; 690159, 4537847; 690158, 4537850; 690157, 4537853; 690156, 4537860; 690162, 4537874; 690166, 4537879; 690170, 4537883; 690176, 4537886; 690187, 4537889; 690197, 4537891; 690203, 4537890; 690214, 4537888; 690221, 4537882; 690228, 4537874; 690232, 4537866; 690239, 4537856; 690243, 4537849; 690246, 4537840; 690248, 4537827; 690250, 4537813; 690254, 4537800; 690259, 4537783; 690264, 4537767; 690269, 4537752; 690272, 4537738; 690273, 4537721; 690275, 4537710; 690276, 4537699; 690273, 4537690; 690271, 4537683; 690269, 4537682; 690257, 4537655; 690264, 4537644; 690266, 4537637; 690268, 4537631; 690270, 4537624; 690271, 4537616; 690269, 4537609; 690262, 4537588; 690258, 4537564; 690268, 4537560; 690269, 4537559; 690298, 4537585; 690298, 4537586; 690298, 4537588; 690305, 4537588; 690313, 4537587; 690322, 4537583; 690333, 4537581; 690343, 4537583; 690351, 4537587; 690361, 4537594; 690367, 4537597; 690377, 4537597; 690387, 4537591; 690394, 4537581; 690400, 4537571; 690405, 4537559; 690410, 4537550; 690414, 4537542; 690422, 4537535; 690432, 4537531; 690444, 4537530; 690458, 4537531; 690471, 4537535; 690481, 4537537; 690500, 4537535; 690514, 4537531; 690526, 4537530; 690535, 4537530; 690543, 4537535; 690548, 4537540; 690551, 4537546; 690554, 4537549; 690560, 4537551; 690568, 4537550; 690576, 4537543; 690584, 4537532; 690597, 4537505; 690602, 4537496; 690608, 4537486; 690614, 4537475; 690623, 4537470; 690631, 4537469; 690637, 4537470; 690642, 4537471; 690648, 4537472; 690665, 4537475; 690677, 4537478; 690682, 4537479; 690682, 4537482; 690683, 4537488; 690679, 4537498; 690673, 4537505; 690659, 4537517; 690649, 4537528; 690644, 4537537; 690641, 4537548; 690638, 4537562; 690632, 4537577; 690628, 4537586; 690624, 4537592; 690616, 4537599; 690607, 4537602; 690595, 4537604; 690583, 4537606; 690567, 4537608; 690555, 4537609; 690540, 4537611; 690529, 4537613; 690521, 4537619; 690514, 4537627; 690503, 4537640; 690493, 4537650; 690486, 4537659; 690480, 4537667; 690473, 4537677; 690470, 4537682; 690459, 4537689; 690451, 4537691; 690441, 4537692; 690434, 4537691; 690424, 4537691; 690420, 4537690; 690413, 4537689; 690406, 4537688; 690400, 4537688; 690395, 4537688; 690392, 4537690; 690390, 4537693; 690388, 4537699; 690388, 4537706; 690388, 4537713; 690390, 4537722; 690390, 4537731; 690390, 4537738; 690390, 4537742; 690390, 4537747; 690391, 4537751; 690397, 4537758; 690405, 4537762; 690413, 4537761; 690422, 4537757; 690429, 4537751; 690434, 4537746; 690443, 4537745; 690451, 4537748; 690457, 4537750; 690462, 4537749; 690470, 4537747; 690478, 4537746; 690480, 4537745; 690485, 4537744; 690487, 4537742; 690488, 4537740; 690489, 4537734; 690483, 4537724; 690482, 4537722; 690480, 4537716; 690482, 4537710; 690489, 4537705; 690501, 4537707; 690514, 4537710; 690530, 4537715; 690539, 4537717; 690554, 4537717; 690566, 4537714; 690578, 4537711; 690594, 4537706; 690607, 4537701; 690618, 4537692; 690631, 4537685; 690646, 4537678; 690666, 4537663; 690682, 4537656; 690696, 4537654; 690706, 4537656; 690716, 4537660; 690723, 4537663; 690733, 4537666; 690743, 4537665; 690755, 4537660; 690764, 4537655; 690771, 4537650; 690777, 4537646; 690782, 4537643; 690785, 4537639; 690789, 4537634; 690791, 4537631; 690791, 4537627; 690791, 4537625; 690790, 4537622; 690802, 4537603; 690809, 4537597; 690816, 4537592; 690826, 4537586; 690834, 4537581; 690843, 4537577; 690850, 4537573; 690859, 4537567; 690866, 4537562; 690876, 4537557; 690885, 4537554; 690896, 4537551; 690905, 4537551; 690913, 4537549; 690916, 4537548; 690919, 4537546; 690921, 4537542; 690921, 4537537; 690926, 4537533; 690932, 4537529; 690935, 4537525; 690937, 4537520; 690937, 4537515; 690938, 4537513; 690947, 4537498; 690954, 4537488; 690961, 4537481; 690966, 4537475; 690974, 4537469; 690981, 4537465; 690991, 4537464; 691000, 4537465; 691007, 4537467; 691012, 4537469; 691015, 4537469; 691021, 4537469; 691022, 4537469; 691067, 4537476; 691075, 4537481; 691079, 4537486; 691086, 4537496; 691089, 4537503; 691091, 4537513; 691091, 4537522; 691090, 4537532; 691088, 4537542; 691085, 4537553; 691083, 4537566; 691082, 4537573; 691081, 4537580; 691080, 4537583; 691080, 4537588; 691078, 4537591; 691076, 4537595; 691073, 4537599; 691069, 4537601; 691060, 4537602; 691049, 4537604; 691036, 4537608; 691023, 4537614; 691013, 4537621; 691002, 4537634; 690995, 4537640; 690989, 4537645; 690974, 4537654; 690963, 4537663; 690958, 4537671; 690954, 4537680; 690950, 4537691; 690948, 4537702; 690944, 4537714; 690937, 4537726; 690931, 4537736; 690928, 4537739; 690913, 4537749; 690906, 4537754; 690898, 4537760; 690891, 4537766; 690885, 4537772; 690880, 4537777; 690875, 4537781; 690872, 4537782; 690868, 4537786; 690866, 4537791; 690864, 4537796; 690864, 4537802; 690863, 4537807; 690866, 4537811; 690868, 4537815; 690871, 4537816; 690875, 4537817; 690880, 4537816; 690889, 4537813; 690895, 4537810; 690900, 4537805; 690906, 4537802; 690914, 4537799; 690922, 4537797; 690930, 4537794; 690940, 4537790; 690951, 4537787; 690962, 4537782; 690970, 4537780; 690981, 4537776; 690990, 4537772; 690997, 4537766; 691003, 4537759; 691008, 4537753; 691013, 4537745; 691020, 4537734; 691025, 4537726; 691033, 4537714; 691036, 4537709; 691038, 4537706; 691041, 4537701; 691041, 4537700; 691044, 4537699; 691046, 4537697; 691065, 4537683; 691071, 4537682; 691080, 4537680; 691089, 4537675; 691104, 4537665; 691110, 4537662; 691118, 4537655; 691122, 4537647; 691126, 4537637; 691131, 4537625; 691136, 4537612; 691140, 4537601; 691145, 4537589; 691148, 4537580; 691151, 4537575; 691156, 4537567; 691166, 4537562; 691176, 4537561; 691183, 4537559; 691190, 4537558; 691199, 4537555; 691203, 4537552; 691207, 4537544; 691211, 4537536; 691214, 4537527; 691215, 4537519; 691215, 4537511; 691214, 4537503; 691211, 4537496; 691210, 4537494; 691210, 4537493; 691204, 4537488; 691211, 4537473; 691213, 4537466; 691214, 4537456; 691215, 4537448; 691213, 4537439; 691208, 4537434; 691203, 4537430; 691198, 4537429; 691193, 4537425; 691192, 4537418; 691194, 4537409; 691203, 4537403; 691208, 4537396; 691211, 4537390; 691213, 4537384; 691215, 4537379; 691222, 4537372; 691232, 4537371; 691246, 4537374; 691259, 4537378; 691270, 4537384; 691281, 4537392; 691290, 4537401; 691297, 4537409; 691305, 4537419; 691310, 4537431; 691313, 4537441; 691315, 4537454; 691315, 4537466; 691312, 4537481; 691306, 4537497; 691302, 4537510; 691297, 4537524; 691294, 4537536; 691289, 4537545; 691288, 4537551; 691286, 4537557; 691286, 4537564; 691287, 4537570; 691288, 4537573; 691292, 4537574; 691303, 4537572; 691313, 4537570; 691322, 4537570; 691329, 4537570; 691335, 4537572; 691340, 4537576; 691346, 4537581; 691354, 4537589; 691363, 4537597; 691367, 4537602; 691371, 4537606; 691375, 4537611; 691377, 4537615; 691377, 4537619; 691375, 4537622; 691366, 4537627; 691354, 4537632; 691344, 4537639; 691339, 4537645; 691332, 4537654; 691328, 4537665; 691323, 4537675; 691319, 4537681; 691312, 4537689; 691303, 4537699; 691299, 4537705; 691294, 4537714; 691289, 4537723; 691287, 4537729; 691286, 4537734; 691285, 4537741; 691287, 4537746; 691290, 4537754; 691294, 4537758; 691297, 4537758; 691300, 4537760; 691302, 4537762; 691304, 4537764; 691309, 4537767; 691303, 4537781; 691303, 4537787; 691303, 4537792; 691303, 4537796; 691305, 4537801; 691304, 4537804; 691305, 4537807; 691305, 4537808; 691305, 4537810; 691311, 4537818; 691307, 4537843; 691305, 4537856; 691302, 4537868; 691299, 4537877; 691297, 4537880; 691292, 4537883; 691284, 4537885; 691280, 4537886; 691276, 4537891; 691272, 4537900; 691270, 4537909; 691267, 4537919; 691264, 4537928; 691260, 4537940; 691252, 4537949; 691244, 4537958; 691237, 4537965; 691230, 4537972; 691222, 4537983; 691216, 4537995; 691211, 4538009; 691208, 4538026; 691208, 4538042; 691208, 4538055; 691208, 4538066; 691206, 4538076; 691200, 4538088; 691197, 4538095; 691193, 4538101; 691190, 4538104; 691188, 4538107; 691183, 4538111; 691171, 4538122; 691167, 4538126; 691161, 4538132; 691159, 4538140; 691158, 4538152; 691159, 4538166; 691160, 4538191; 691161, 4538201; 691162, 4538208; 691162, 4538215; 691074, 4538281; 691082, 4538281; 691074, 4538281; 691072, 4538296; 691073, 4538303; 691074, 4538313; 691077, 4538323; 691078, 4538329; 691080, 4538338; 691079, 4538348; 691075, 4538359; 691072, 4538367; 691068, 4538373; 691064, 4538377; 691061, 4538380; 691059, 4538383; 691057, 4538387; 691057, 4538393; 691059, 4538399; 691062, 4538403; 691071, 4538404; 691078, 4538404; 691089, 4538400; 691094, 4538395; 691097, 4538386; 691102, 4538375; 691107, 4538368; 691115, 4538360; 691128, 4538355; 691142, 4538352; 691158, 4538351; 691176, 4538354; 691188, 4538357; 691193, 4538360; 691200, 4538363; 691205, 4538364; 691209, 4538365; 691216, 4538366.

(iii) Note: Map of Unit 1 follows:

(7) Unit 2: Little Salt Creek—Arbor Lake, Lancaster County, Nebraska.

(i) Tract 2a: 695582, 4530097; 695584, 4530093; 695585, 4530092; 695590, 4530091; 695596, 4530091; 695600, 4530088; 695602, 4530085; 695602, 4530078; 695598, 4530070; 695591, 4530064; 695583, 4530058; 695572, 4530054; 695561, 4530051; 695555, 4530050; 695547, 4530048; 695541, 4530045; 695538, 4530043; 695530, 4530040; 695515, 4530031; 695496, 4530025; 695488, 4530021; 695482, 4530016; 695476, 4530013; 695471, 4530009; 695465, 4530008; 695457, 4530008; 695450, 4530009; 695444, 4530012; 695439, 4530017; 695434, 4530023; 695432, 4530031; 695428, 4530042; 695426, 4530044; 695422, 4530044; 695418, 4530043; 695413, 4530044; 695411, 4530046; 695409, 4530050; 695409, 4530056; 695411, 4530061; 695417, 4530065; 695427, 4530068; 695434, 4530074; 695438, 4530080; 695439, 4530087; 695439, 4530092; 695439, 4530098; 695441, 4530104; 695443, 4530106; 695450, 4530107; 695458, 4530105; 695467, 4530103; 695478, 4530101; 695488, 4530099; 695496, 4530097; 695506, 4530099; 695513, 4530102; 695522, 4530107; 695528, 4530111; 695534, 4530116; 695540, 4530120; 695548, 4530122; 695558, 4530122; 695565, 4530124; 695571, 4530123; 695576, 4530122; 695580, 4530116; 695581, 4530109; 695582, 4530104; 695582, 4530097.

(ii) Tract 2b: 695752, 4530111; 695749, 4530108; 695745, 4530108; 695738, 4530109; 695729, 4530109; 695722, 4530108; 695716, 4530106; 695708, 4530104; 695701, 4530104; 695694, 4530104; 695689, 4530105; 695683, 4530106; 695671, 4530106; 695669, 4530107; 695664, 4530110; 695662, 4530115; 695659, 4530124; 695658, 4530135; 695659, 4530146; 695661, 4530154; 695665, 4530165; 695670, 4530172; 695677, 4530181; 695681, 4530185; 695689, 4530190; 695695, 4530195; 695704, 4530200; 695710, 4530203; 695715, 4530205; 695721, 4530206; 695731, 4530204; 695738, 4530200; 695743, 4530198; 695748, 4530194; 695752, 4530190; 695755, 4530184; 695758, 4530177; 695761, 4530171; 695763, 4530163; 695764, 4530155; 695764, 4530146; 695762, 4530136; 695760, 4530128; 695758, 4530122; 695756, 4530117; 695752, 4530111.

(iii) Tract 2c: 694865, 4531575; 694912, 4531436; 694913, 4531436; 694921, 4531431; 694932, 4531426; 694944, 4531421; 694955, 4531418; 694964, 4531416; 694970, 4531412; 694975, 4531403; 694979, 4531392; 694982, 4531380; 694987, 4531366; 694993, 4531353; 695000, 4531342; 695007, 4531330; 695014, 4531318; 695021, 4531310; 695028, 4531306; 695034, 4531309; 695037, 4531312; 695041, 4531317; 695045, 4531325; 695048, 4531333; 695050, 4531344; 695056, 4531359; 695061, 4531374; 695067, 4531381; 695076, 4531387; 695085, 4531390; 695095, 4531394; 695102, 4531397; 695106, 4531402; 695104, 4531408; 695103, 4531413; 695102, 4531419; 695105, 4531424; 695111, 4531427; 695119, 4531430; 695126, 4531435; 695130, 4531439; 695133, 4531441; 695139, 4531441; 695148, 4531441; 695155, 4531442; 695163, 4531445; 695170, 4531447; 695174, 4531447; 695177, 4531446; 695180, 4531441; 695182, 4531436; 695184, 4531433; 695188, 4531427; 695193, 4531418; 695198, 4531408; 695203, 4531398; 695206, 4531388; 695209, 4531375; 695210, 4531361; 695209, 4531348; 695206, 4531336; 695202, 4531326; 695197, 4531314; 695191, 4531307; 695186, 4531301; 695179, 4531294; 695173, 4531284; 695169, 4531276; 695164, 4531266; 695161, 4531256; 695159, 4531246; 695160, 4531234; 695160, 4531221; 695167, 4531206; 695178, 4531196; 695185, 4531193; 695195, 4531190; 695206, 4531187; 695213, 4531183; 695219, 4531174; 695222, 4531165; 695224, 4531154; 695225, 4531141; 695225, 4531132; 695224, 4531122; 695223, 4531116; 695222, 4531114; 695220, 4531104; 695219, 4531097; 695220, 4531087; 695222, 4531077; 695227, 4531064; 695230, 4531058; 695232, 4531050; 695235, 4531044; 695237, 4531037; 695238, 4531027; 695239, 4531024; 695238, 4531017; 695236, 4531013; 695235, 4531012; 695260, 4530964; 695263, 4530964; 695267, 4530964; 695271, 4530963; 695275, 4530961; 695278, 4530958; 695284, 4530953; 695288, 4530951; 695293, 4530948; 695311, 4530942; 695321, 4530947; 695323, 4530952; 695325, 4530958; 695324, 4530964; 695321, 4530968; 695318, 4530972; 695315, 4530974; 695308, 4530977; 695302, 4530980; 695295, 4530982; 695287, 4530985; 695282, 4530987; 695275, 4530990; 695271, 4530995; 695270, 4531001; 695271, 4531006; 695274, 4531012; 695276, 4531015; 695278, 4531017; 695290, 4531020; 695302, 4531024; 695308, 4531024; 695314, 4531023; 695318, 4531022; 695322, 4531019; 695324, 4531017; 695327, 4531014; 695333, 4531011; 695340, 4531009; 695349, 4531011; 695355, 4531012; 695360, 4531012; 695365, 4531010; 695368, 4531007; 695372, 4531001; 695376, 4530996; 695380, 4530991; 695384, 4530988; 695387, 4530987; 695398, 4530981; 695402, 4530981; 695412, 4530983; 695419, 4530987; 695425, 4530991; 695430, 4530994; 695436, 4530994; 695445, 4530992; 695452, 4530989; 695459, 4530985; 695463, 4530979; 695466, 4530974; 695470, 4530966; 695475, 4530959; 695484, 4530953; 695491, 4530950; 695500, 4530948; 695509, 4530945; 695516, 4530942; 695522, 4530940; 695527, 4530936; 695529, 4530933; 695536, 4530924; 695545, 4530917; 695548, 4530913; 695550, 4530908; 695551, 4530904; 695551, 4530900; 695552, 4530897; 695552, 4530895; 695552, 4530892; 695564, 4530890; 695568, 4530887; 695572, 4530885; 695576, 4530882; 695580, 4530878; 695584, 4530872; 695586, 4530869; 695596, 4530862; 695608, 4530867; 695610, 4530873; 695611, 4530880; 695613, 4530884; 695616, 4530890; 695618, 4530894; 695627, 4530904; 695634, 4530909; 695640, 4530914; 695646, 4530917; 695650, 4530921; 695655, 4530924; 695661, 4530927; 695664, 4530927; 695667, 4530925; 695672, 4530920; 695674, 4530915; 695676, 4530908; 695676, 4530900; 695676, 4530892; 695675, 4530884; 695672, 4530872; 695667, 4530861; 695665, 4530856; 695665, 4530849; 695668, 4530839; 695674, 4530825; 695679, 4530818; 695685, 4530809; 695692, 4530801; 695696, 4530792; 695697, 4530779; 695698, 4530768; 695700, 4530754; 695702, 4530742; 695704, 4530731; 695708, 4530719; 695711, 4530708; 695714, 4530696; 695716, 4530683; 695714, 4530663; 695709, 4530649; 695702, 4530635; 695698, 4530627; 695692, 4530618; 695689, 4530608; 695686, 4530594; 695684, 4530577; 695684, 4530569; 695683, 4530559; 695680, 4530554; 695675, 4530545; 695670, 4530540; 695667, 4530536; 695666, 4530533; 695665, 4530530; 695664, 4530517; 695664, 4530514; 695663, 4530509; 695663, 4530491; 695676, 4530483; 695684, 4530482; 695690, 4530481; 695698, 4530479; 695705, 4530476; 695711, 4530473; 695717, 4530471; 695723, 4530469; 695728, 4530466; 695733, 4530462; 695736, 4530458; 695735, 4530451; 695731, 4530441; 695724, 4530432; 695714, 4530423; 695706, 4530417; 695693, 4530407; 695681, 4530397; 695669, 4530384; 695662, 4530374; 695657, 4530364; 695652, 4530356; 695646, 4530347; 695642, 4530339; 695636, 4530335; 695630, 4530332; 695623, 4530326; 695617, 4530320; 695609, 4530314; 695603, 4530311; 695597, 4530309; 695590, 4530308; 695586, 4530305; 695582, 4530300; 695580, 4530292; 695579, 4530284; 695579, 4530276; 695580, 4530268; 695582, 4530263; 695587, 4530257; 695594, 4530253; 695599, 4530250; 695604, 4530245; 695607, 4530241; 695609, 4530234; 695608, 4530226; 695607, 4530217; 695605, 4530208; 695600, 4530201; 695596, 4530195; 695591, 4530191; 695581, 4530189; 695574, 4530189; 695565, 4530191; 695559, 4530192; 695552, 4530193; 695544, 4530192; 695538, 4530184; 695533, 4530176; 695530, 4530172; 695528, 4530169; 695518, 4530178; 695514, 4530180; 695510, 4530182; 695506, 4530183; 695502, 4530187; 695492, 4530195; 695486, 4530201; 695483, 4530206; 695480, 4530213; 695477, 4530219; 695476, 4530222; 695474, 4530224; 695471, 4530227; 695467, 4530230; 695465, 4530230; 695463, 4530230; 695462, 4530230; 695453, 4530228; 695443, 4530224; 695441, 4530222; 695441, 4530219; 695441, 4530211; 695440, 4530203; 695440, 4530195; 695440, 4530189; 695438, 4530180; 695436, 4530173; 695434, 4530168; 695432, 4530162; 695425, 4530149; 695412, 4530154; 695407, 4530158; 695402, 4530166; 695398, 4530173; 695396, 4530182; 695393, 4530192; 695391, 4530202; 695390, 4530211; 695389, 4530221; 695389, 4530229; 695389, 4530234; 695390, 4530240; 695389, 4530244; 695389, 4530247; 695387, 4530249; 695379, 4530255; 695377, 4530256; 695375, 4530259; 695373, 4530261; 695372, 4530264; 695372, 4530267; 695371, 4530271; 695371, 4530279; 695368, 4530292; 695367, 4530298; 695366, 4530302; 695363, 4530305; 695360, 4530307; 695354, 4530307; 695347, 4530308; 695339, 4530307; 695333, 4530307; 695326, 4530305; 695320, 4530303; 695316, 4530301; 695313, 4530298; 695310, 4530296; 695307, 4530292; 695307, 4530289; 695308, 4530283; 695310, 4530271; 695311, 4530260; 695311, 4530249; 695310, 4530240; 695307, 4530234; 695306, 4530226; 695304, 4530218; 695302, 4530212; 695301, 4530209; 695299, 4530205; 695295, 4530204; 695290, 4530205; 695293, 4529952; 695234, 4529971; 695176, 4530206; 695176, 4530206; 695173, 4530204; 695169, 4530200; 695164, 4530196; 695160, 4530192; 695156, 4530189; 695147, 4530186; 695137, 4530186; 695127, 4530187; 695117, 4530190; 695109, 4530193; 695103, 4530198; 695099, 4530202; 695096, 4530208; 695092, 4530213; 695086, 4530216; 695083, 4530217; 695076, 4530217; 695071, 4530216; 695064, 4530216; 695060, 4530215; 695051, 4530206; 695053, 4530191; 695052, 4530187; 695048, 4530180; 695041, 4530177; 695034, 4530174; 695025, 4530171; 695016, 4530169; 695008, 4530166; 695000, 4530164; 694992, 4530162; 694984, 4530160; 694978, 4530160; 694972, 4530161; 694967, 4530163; 694960, 4530167; 694955, 4530170; 694950, 4530172; 694949, 4530173; 694926, 4530179; 694915, 4530181; 694913, 4530180; 694909, 4530176; 694907, 4530176; 694907, 4530175; 694903, 4530174; 694899, 4530174; 694899, 4530174; 694891, 4530177; 694885, 4530178; 694884, 4530178; 694873, 4530173; 694866, 4530170; 694859, 4530169; 694851, 4530167; 694839, 4530170; 694821, 4530178; 694815, 4530180; 694807, 4530182; 694801, 4530182; 694793, 4530182; 694785, 4530181; 694774, 4530179; 694766, 4530176; 694762, 4530174; 694756, 4530171; 694752, 4530169; 694750, 4530167; 694749, 4530165; 694747, 4530164; 694737, 4530175; 694735, 4530178; 694746, 4530203; 694752, 4530211; 694759, 4530218; 694766, 4530223; 694776, 4530229; 694783, 4530232; 694791, 4530235; 694795, 4530238; 695102, 4530431; 695100, 4530435; 695098, 4530440; 695096, 4530443; 695092, 4530447; 695087, 4530450; 695084, 4530450; 695081, 4530449; 695061, 4530437; 695057, 4530435; 695051, 4530432; 695045, 4530431; 695038, 4530431; 695032, 4530436; 695027, 4530443; 695024, 4530451; 695021, 4530457; 695017, 4530461; 695009, 4530465; 695002, 4530466; 694993, 4530467; 694984, 4530465; 694976, 4530457; 694968, 4530451; 694961, 4530449; 694951, 4530448; 694945, 4530447; 694936, 4530445; 694926, 4530440; 694916, 4530437; 694904, 4530435; 694894, 4530433; 694885, 4530432; 694876, 4530430; 694868, 4530428; 694863, 4530426; 694859, 4530423; 694847, 4530415; 694835, 4530406; 694829, 4530401; 694821, 4530396; 694813, 4530391; 694804, 4530387; 694798, 4530383; 694790, 4530379; 694785, 4530376; 694780, 4530374; 694772, 4530372; 694766, 4530371; 694763, 4530371; 694758, 4530377; 694756, 4530385; 694755, 4530392; 694756, 4530398; 694759, 4530403; 694763, 4530408; 694769, 4530411; 694775, 4530412; 694782, 4530412; 694791, 4530413; 694798, 4530414; 694803, 4530417; 694814, 4530423; 694821, 4530428; 694827, 4530432; 694830, 4530434; 694835, 4530437; 694838, 4530439; 694838, 4530440; 694844, 4530453; 694846, 4530456; 694850, 4530461; 694856, 4530464; 694862, 4530466; 694868, 4530468; 694871, 4530470; 694872, 4530474; 694874, 4530478; 694875, 4530489; 694874, 4530510; 694872, 4530518; 694869, 4530524; 694862, 4530532; 694855, 4530535; 694847, 4530539; 694839, 4530543; 694836, 4530545; 694831, 4530547; 694827, 4530550; 694825, 4530555; 694823, 4530562; 694823, 4530569; 694824, 4530574; 694827, 4530580; 694828, 4530583; 694834, 4530590; 694837, 4530592; 694840, 4530594; 694844, 4530596; 694849, 4530597; 694851, 4530597; 694853, 4530598; 694869, 4530603; 694873, 4530605; 694879, 4530607; 694884, 4530609; 694888, 4530610; 694896, 4530616; 694907, 4530626; 694909, 4530628; 694912, 4530630; 694920, 4530632; 694929, 4530632; 694937, 4530631; 694943, 4530629; 694950, 4530627; 694955, 4530625; 694960, 4530623; 694963, 4530622; 694964, 4530622; 694966, 4530620; 694977, 4530618; 694983, 4530621; 694987, 4530626; 694989, 4530631; 694993, 4530635; 694997, 4530638; 695003, 4530639; 695012, 4530639; 695020, 4530636; 695030, 4530632; 695038, 4530628; 695045, 4530626; 695050, 4530625; 695054, 4530625; 695068, 4530623; 695078, 4530632; 695079, 4530637; 695080, 4530642; 695080, 4530647; 695079, 4530651; 695079, 4530658; 695078, 4530672; 695079, 4530679; 695079, 4530689; 695076, 4530699; 695072, 4530708; 695068, 4530715; 695064, 4530720; 695057, 4530726; 695050, 4530732; 695044, 4530737; 695036, 4530743; 695028, 4530749; 695022, 4530755; 695018, 4530761; 695013, 4530774; 695011, 4530784; 695010, 4530794; 695010, 4530807; 695011, 4530818; 695012, 4530825; 695013, 4530832; 695013, 4530839; 695013, 4530845; 695007, 4530856; 694999, 4530865; 694989, 4530873; 694981, 4530879; 694970, 4530887; 694961, 4530895; 694951, 4530903; 694941, 4530912; 694929, 4530922; 694915, 4530933; 694904, 4530939; 694896, 4530943; 694888, 4530948; 694884, 4530953; 694879, 4530963; 694873, 4530975; 694870, 4530982; 694870, 4530990; 694870, 4530998; 694871, 4531004; 694874, 4531012; 694877, 4531022; 694880, 4531032; 694879, 4531041; 694877, 4531047; 694871, 4531059; 694864, 4531067; 694855, 4531079; 694846, 4531090; 694836, 4531101; 694830, 4531108; 694829, 4531110; 694824, 4531114; 694819, 4531118; 694815, 4531119; 694811, 4531119; 694804, 4531118; 694797, 4531115; 694791, 4531110; 694786, 4531108; 694779, 4531106; 694776, 4531106; 694769, 4531108; 694763, 4531111; 694756, 4531114; 694752, 4531115; 694750, 4531116; 694732, 4531126; 694725, 4531127; 694716, 4531126; 694705, 4531124; 694697, 4531123; 694686, 4531122; 694678, 4531122; 694671, 4531122; 694664, 4531122; 694654, 4531118; 694638, 4531120; 694631, 4531122; 694620, 4531126; 694610, 4531131; 694603, 4531135; 694599, 4531138; 694596, 4531141; 694592, 4531143; 694588, 4531144; 694587, 4531144; 694578, 4531142; 694568, 4531144; 694562, 4531148; 694555, 4531152; 694546, 4531160; 694540, 4531167; 694535, 4531177; 694530, 4531186; 694526, 4531191; 694520, 4531194; 694518, 4531195; 694510, 4531198; 694504, 4531201; 694500, 4531206; 694497, 4531213; 694493, 4531223; 694490, 4531233; 694489, 4531244; 694489, 4531254; 694492, 4531263; 694495, 4531276; 694499, 4531293; 694501, 4531304; 694503, 4531316; 694503, 4531330; 694501, 4531342; 694498, 4531352; 694496, 4531363; 694495, 4531375; 694498, 4531389; 694501, 4531405; 694502, 4531418; 694502, 4531430; 694503, 4531442; 694503, 4531453; 694504, 4531459; 694504, 4531464; 694505, 4531469; 694506, 4531472; 694506, 4531475; 694507, 4531478; 694507, 4531481; 694506, 4531490; 694505, 4531494; 694505, 4531497; 694506, 4531500; 694507, 4531502; 694509, 4531504; 694512, 4531505; 694518, 4531506; 694523, 4531506; 694529, 4531506; 694534, 4531506; 694540, 4531506; 694545, 4531506; 694552, 4531507; 694562, 4531506; 694570, 4531506; 694575, 4531505; 694671, 4531593; 694865, 4531575.

(iv) Tract 2d: 694708, 4530350; 694706, 4530341; 694705, 4530336; 694703, 4530331; 694701, 4530326; 694699, 4530322; 694698, 4530321; 694697, 4530318; 694696, 4530316; 694697, 4530314; 694697, 4530313; 694699, 4530312; 694706, 4530302; 694708, 4530300; 694710, 4530297; 694712, 4530293; 694712, 4530290; 694712, 4530284; 694710, 4530279; 694708, 4530271; 694705, 4530263; 694703, 4530258; 694702, 4530255; 694698, 4530252; 694695, 4530250; 694692, 4530249; 694689, 4530251; 694684, 4530253; 694679, 4530257; 694676, 4530258; 694666, 4530264; 694650, 4530270; 694641, 4530271; 694633, 4530270; 694629, 4530270; 694624, 4530269; 694618, 4530269; 694614, 4530271; 694609, 4530275; 694605, 4530279; 694603, 4530283; 694601, 4530288; 694602, 4530292; 694604, 4530296; 694608, 4530301; 694615, 4530305; 694622, 4530305; 694631, 4530303; 694638, 4530301; 694649, 4530299; 694656, 4530298; 694663, 4530296; 694667, 4530296; 694670, 4530298; 694673, 4530302; 694672, 4530306; 694671, 4530313; 694668, 4530317; 694664, 4530320; 694658, 4530322; 694652, 4530324; 694646, 4530327; 694644, 4530329; 694642, 4530334; 694642, 4530336; 694643, 4530340; 694644, 4530344; 694646, 4530348; 694652, 4530349; 694661, 4530349; 694666, 4530347; 694671, 4530344; 694674, 4530344; 694677, 4530343; 694679, 4530346; 694682, 4530352; 694684, 4530357; 694686, 4530361; 694687, 4530365; 694690, 4530369; 694693, 4530372; 694697, 4530372; 694700, 4530370; 694703, 4530367; 694705, 4530363; 694706, 4530358; 694708, 4530350.

(v) Tract 2e: 694483, 4530368; 694487, 4530364; 694488, 4530362; 694491, 4530343; 694494, 4530332; 694493, 4530323; 694490, 4530315; 694485, 4530306; 694482, 4530299; 694481, 4530288; 694484, 4530276; 694486, 4530272; 694494, 4530266; 694502, 4530265; 694513, 4530265; 694521, 4530265; 694530, 4530264; 694538, 4530260; 694545, 4530257; 694550, 4530253; 694555, 4530247; 694561, 4530241; 694565, 4530236; 694567, 4530233; 694569, 4530231; 694570, 4530228; 694572, 4530227; 694581, 4530223; 694587, 4530217; 694591, 4530212; 694593, 4530207; 694591, 4530203; 694590, 4530200; 694586, 4530199; 694579, 4530196; 694575, 4530194; 694598, 4530176; 694605, 4530177; 694613, 4530178; 694622, 4530177; 694632, 4530176; 694645, 4530175; 694654, 4530177; 694661, 4530179; 694667, 4530181; 694675, 4530179; 694683, 4530176; 694688, 4530171; 694693, 4530163; 694697, 4530156; 694700, 4530150; 694704, 4530140; 694704, 4530135; 694704, 4530123; 694709, 4530112; 694706, 4530105; 694700, 4530098; 694696, 4530091; 694694, 4530086; 694693, 4530078; 694695, 4530070; 694673, 4530067; 694663, 4530063; 694656, 4530060; 694648, 4530056; 694639, 4530052; 694631, 4530049; 694622, 4530045; 694613, 4530041; 694605, 4530039; 694600, 4530037; 694593, 4530038; 694589, 4530039; 694586, 4530041; 694583, 4530042; 694582, 4530043; 694573, 4530048; 694570, 4530047; 694566, 4530045; 694564, 4530042; 694562, 4530037; 694561, 4530032; 694559, 4530026; 694557, 4530019; 694553, 4530014; 694548, 4530010; 694543, 4530007; 694540, 4530006; 694536, 4530004; 694534, 4530002; 694532, 4529998; 694531, 4529994; 694531, 4529991; 694532, 4529989; 694522, 4529987; 694517, 4529985; 694514, 4529985; 694511, 4529988; 694510, 4529993; 694508, 4530003; 694508, 4530016; 694509, 4530030; 694512, 4530044; 694515, 4530054; 694519, 4530066; 694523, 4530075; 694528, 4530084; 694533, 4530092; 694539, 4530099; 694544, 4530104; 694549, 4530106; 694535, 4530130; 694532, 4530129; 694523, 4530126; 694511, 4530125; 694502, 4530127; 694494, 4530131; 694488, 4530135; 694481, 4530143; 694475, 4530149; 694471, 4530156; 694468, 4530164; 694467, 4530171; 694466, 4530178; 694472, 4530197; 694472, 4530213; 694471, 4530219; 694469, 4530223; 694464, 4530226; 694459, 4530227; 694456, 4530227; 694453, 4530229; 694449, 4530233; 694448, 4530237; 694448, 4530246; 694448, 4530256; 694446, 4530266; 694440, 4530276; 694434, 4530286; 694428, 4530292; 694423, 4530299; 694417, 4530306; 694413, 4530312; 694408, 4530323; 694408, 4530331; 694410, 4530338; 694413, 4530342; 694420, 4530346; 694428, 4530350; 694433, 4530352; 694436, 4530355; 694437, 4530358; 694435, 4530364; 694431, 4530367; 694424, 4530368; 694415, 4530367; 694406, 4530368; 694400, 4530371; 694395, 4530378; 694391, 4530384; 694389, 4530390; 694387, 4530395; 694383, 4530406; 694400, 4530410; 694408, 4530409; 694420, 4530406; 694432, 4530403; 694444, 4530400; 694452, 4530396; 694458, 4530394; 694463, 4530391; 694468, 4530387; 694472, 4530382; 694476, 4530378; 694480, 4530372; 694483, 4530368.

(vi) Note: Map of Units 2 and 3 follows:

(8) Unit 3: Little Salt Creek—Roper, Lancaster County, Nebraska.

(i) Tract 3a: 696382, 4529523; 696387, 4529519; 696387, 4529517; 696387, 4529512; 696385, 4529506; 696384, 4529499; 696383, 4529491; 696379, 4529481; 696372, 4529468; 696364, 4529460; 696359, 4529455; 696352, 4529446; 696347, 4529433; 696344, 4529427; 696339, 4529417; 696336, 4529410; 696333, 4529405; 696328, 4529398; 696326, 4529392; 696324, 4529388; 696323, 4529385; 696322, 4529384; 696316, 4529376; 696316, 4529374; 696315, 4529371; 696316, 4529356; 696313, 4529341; 696314, 4529331; 696317, 4529323; 696320, 4529310; 696325, 4529295; 696329, 4529281; 696332, 4529264; 696335, 4529246; 696338, 4529232; 696342, 4529218; 696345, 4529201; 696349, 4529187; 696353, 4529172; 696357, 4529157; 696361, 4529143; 696366, 4529132; 696370, 4529123; 696372, 4529113; 696376, 4529101; 696380, 4529089; 696385, 4529082; 696389, 4529074; 696392, 4529064; 696394, 4529053; 696394, 4529034; 696396, 4529008; 696395, 4528995; 696393, 4528975; 696394, 4528956; 696395, 4528938; 696397, 4528925; 696401, 4528909; 696406, 4528898; 696416, 4528883; 696424, 4528870; 696430, 4528860; 696436, 4528851; 696440, 4528843; 696443, 4528830; 696446, 4528817; 696450, 4528806; 696454, 4528795; 696457, 4528780; 696457, 4528766; 696458, 4528751; 696460, 4528731; 696461, 4528714; 696461, 4528701; 696460, 4528687; 696458, 4528674; 696454, 4528669; 696447, 4528661; 696440, 4528652; 696435, 4528644; 696428, 4528632; 696424, 4528620; 696422, 4528607; 696425, 4528596; 696427, 4528584; 696431, 4528575; 696434, 4528565; 696437, 4528560; 696442, 4528557; 696450, 4528555; 696456, 4528558; 696464, 4528561; 696471, 4528564; 696477, 4528564; 696487, 4528559; 696499, 4528551; 696507, 4528544; 696513, 4528542; 696523, 4528540; 696530, 4528543; 696535, 4528547; 696539, 4528552; 696543, 4528555; 696547, 4528559; 696551, 4528561; 696556, 4528560; 696560, 4528556; 696564, 4528551; 696566, 4528544; 696567, 4528542; 696569, 4528539; 696577, 4528546; 696582, 4528548; 696587, 4528549; 696589, 4528550; 696594, 4528550; 696598, 4528548; 696600, 4528545; 696603, 4528540; 696605, 4528536; 696606, 4528533; 696610, 4528529; 696615, 4528526; 696621, 4528525; 696627, 4528523; 696632, 4528519; 696636, 4528513; 696636, 4528510; 696636, 4528503; 696636, 4528494; 696634, 4528488; 696631, 4528469; 696648, 4528449; 696653, 4528447; 696660, 4528446; 696669, 4528446; 696677, 4528444; 696687, 4528438; 696695, 4528432; 696706, 4528426; 696711, 4528423; 696717, 4528422; 696723, 4528420; 696726, 4528419; 696728, 4528418; 696737, 4528422; 696742, 4528424; 696745, 4528426; 696750, 4528431; 696754, 4528437; 696758, 4528443; 696761, 4528447; 696765, 4528449; 696768, 4528450; 696774, 4528449; 696782, 4528447; 696787, 4528446; 696794, 4528443; 696801, 4528438; 696806, 4528433; 696810, 4528427; 696814, 4528420; 696816, 4528415; 696816, 4528381; 696829, 4528377; 696832, 4528376; 696834, 4528376; 696837, 4528375; 696837, 4528374; 696841, 4528383; 696843, 4528385; 696845, 4528389; 696853, 4528399; 696854, 4528401; 696857, 4528403; 696862, 4528403; 696868, 4528402; 696879, 4528398; 696885, 4528395; 696889, 4528392; 696892, 4528388; 696893, 4528385; 696893, 4528382; 696892, 4528378; 696890, 4528375; 696887, 4528370; 696884, 4528365; 696878, 4528354; 696888, 4528342; 696892, 4528334; 696896, 4528325; 696899, 4528314; 696903, 4528307; 696909, 4528303; 696917, 4528299; 696929, 4528297; 696942, 4528297; 696954, 4528297; 696966, 4528297; 696979, 4528298; 696989, 4528299; 696999, 4528298; 697009, 4528298; 697017, 4528297; 697027, 4528295; 697034, 4528294; 697041, 4528293; 697046, 4528293; 697048, 4528292; 697060, 4528288; 697063, 4528289; 697067, 4528291; 697073, 4528293; 697078, 4528293; 697081, 4528293; 697083, 4528294; 697089, 4528292; 697095, 4528291; 697100, 4528291; 697109, 4528290; 697121, 4528287; 697130, 4528287; 697139, 4528288; 697150, 4528290; 697159, 4528294; 697170, 4528298; 697181, 4528301; 697192, 4528301; 697203, 4528301; 697213, 4528299; 697221, 4528297; 697233, 4528296; 697242, 4528296; 697252, 4528300; 697261, 4528305; 697268, 4528309; 697279, 4528312; 697288, 4528313; 697298, 4528311; 697304, 4528309; 697309, 4528306; 697314, 4528302; 697318, 4528298; 697320, 4528293; 697323, 4528288; 697324, 4528281; 697325, 4528268; 697331, 4528262; 697339, 4528259; 697347, 4528259; 697354, 4528258; 697361, 4528259; 697367, 4528263; 697376, 4528270; 697383, 4528277; 697389, 4528288; 697395, 4528305; 697399, 4528316; 697403, 4528324; 697411, 4528325; 697418, 4528323; 697423, 4528318; 697425, 4528311; 697428, 4528299; 697432, 4528289; 697438, 4528286; 697447, 4528285; 697458, 4528287; 697470, 4528289; 697480, 4528294; 697495, 4528299; 697509, 4528301; 697519, 4528299; 697525, 4528296; 697529, 4528290; 697532, 4528281; 697536, 4528268; 697542, 4528256; 697547, 4528249; 697562, 4528239; 697579, 4528232; 697584, 4528230; 697590, 4528227; 697595, 4528223; 697598, 4528217; 697600, 4528203; 697605, 4528192; 697608, 4528183; 697614, 4528174; 697617, 4528166; 697618, 4528159; 697613, 4528147; 697605, 4528139; 697592, 4528134; 697582, 4528133; 697566, 4528133; 697557, 4528136; 697550, 4528140; 697543, 4528147; 697539, 4528156; 697536, 4528161; 697533, 4528167; 697530, 4528172; 697525, 4528177; 697520, 4528180; 697467, 4528169; 697446, 4528160; 697445, 4528159; 697441, 4528151; 697436, 4528141; 697425, 4528126; 697420, 4528114; 697417, 4528103; 697413, 4528090; 697408, 4528075; 697406, 4528064; 697402, 4528048; 697395, 4528034; 697388, 4528026; 697379, 4528022; 697373, 4528020; 697368, 4528015; 697361, 4528010; 697352, 4528011; 697346, 4528020; 697335, 4528021; 697330, 4528023; 697327, 4528028; 697326, 4528037; 697329, 4528059; 697330, 4528066; 697329, 4528076; 697324, 4528087; 697318, 4528101; 697314, 4528111; 697311, 4528120; 697307, 4528127; 697300, 4528134; 697294, 4528138; 697286, 4528139; 697279, 4528138; 697270, 4528137; 697264, 4528136; 697257, 4528134; 697251, 4528133; 697246, 4528131; 697241, 4528128; 697237, 4528118; 697238, 4528108; 697240, 4528101; 697241, 4528092; 697241, 4528087; 697238, 4528083; 697235, 4528079; 697250, 4528075; 697252, 4528073; 697255, 4528063; 697253, 4528045; 697251, 4528039; 697245, 4528032; 697242, 4528025; 697241, 4528015; 697241, 4528004; 697234, 4527993; 697228, 4527991; 697224, 4527990; 697220, 4527992; 697215, 4527995; 697211, 4527999; 697208, 4528004; 697198, 4528001; 697192, 4527998; 697187, 4527997; 697185, 4527997; 697181, 4527997; 697174, 4527993; 697169, 4527990; 697160, 4527984; 697150, 4527984; 697139, 4527991; 697126, 4527999; 697117, 4528005; 697109, 4528013; 697093, 4528026; 697088, 4528031; 697083, 4528036; 697080, 4528044; 697078, 4528052; 697077, 4528063; 697077, 4528069; 697071, 4528076; 697065, 4528079; 697060, 4528077; 697055, 4528074; 697050, 4528072; 697042, 4528068; 697032, 4528066; 697026, 4528067; 697012, 4528075; 696994, 4528097; 696985, 4528109; 696980, 4528117; 696973, 4528131; 696970, 4528130; 696968, 4528129; 696961, 4528130; 696957, 4528131; 696955, 4528132; 696948, 4528140; 696934, 4528143; 696927, 4528141; 696918, 4528138; 696910, 4528137; 696899, 4528138; 696889, 4528138; 696878, 4528139; 696868, 4528138; 696859, 4528138; 696852, 4528137; 696847, 4528136; 696838, 4528134; 696832, 4528132; 696827, 4528129; 696823, 4528129; 696820, 4528128; 696824, 4528116; 696826, 4528112; 696828, 4528106; 696828, 4528099; 696822, 4528096; 696812, 4528089; 696800, 4528083; 696786, 4528074; 696779, 4528068; 696771, 4528063; 696763, 4528059; 696758, 4528055; 696756, 4528052; 696756, 4528046; 696756, 4528038; 696756, 4528033; 696755, 4528027; 696751, 4528022; 696743, 4528020; 696734, 4528019; 696728, 4528021; 696719, 4528029; 696713, 4528019; 696713, 4528011; 696714, 4528004; 696715, 4527998; 696717, 4527993; 696722, 4527987; 696727, 4527984; 696730, 4527983; 696733, 4527982; 696736, 4527981; 696740, 4527980; 696744, 4527978; 696745, 4527977; 696746, 4527974; 696746, 4527974; 696735, 4527969; 696734, 4527968; 696802, 4527881; 696803, 4527883; 696809, 4527891; 696812, 4527895; 696819, 4527909; 696826, 4527916; 696827, 4527921; 696829, 4527929; 696831, 4527936; 696837, 4527946; 696843, 4527955; 696852, 4527968; 696860, 4527981; 696867, 4527990; 696872, 4527998; 696877, 4528005; 696884, 4528011; 696894, 4528018; 696901, 4528021; 696909, 4528022; 696917, 4528021; 696923, 4528018; 696928, 4528016; 696937, 4528014; 696944, 4528014; 696948, 4528016; 696951, 4528018; 696955, 4528021; 696960, 4528023; 696972, 4528022; 696980, 4528019; 696984, 4528018; 696986, 4528017; 696992, 4528017; 696998, 4528015; 697005, 4528012; 697012, 4528009; 697018, 4528008; 697022, 4528005; 697025, 4527999; 697027, 4527992; 697026, 4527986; 697025, 4527982; 697023, 4527980; 697019, 4527978; 697017, 4527977; 697007, 4527976; 697000, 4527963; 696996, 4527958; 696992, 4527952; 696987, 4527944; 696977, 4527936; 696972, 4527935; 696964, 4527936; 696960, 4527937; 696956, 4527940; 696953, 4527947; 696954, 4527956; 696959, 4527963; 696965, 4527967; 696968, 4527970; 696970, 4527974; 696970, 4527978; 696970, 4527986; 696969, 4527987; 696966, 4527988; 696963, 4527989; 696959, 4527991; 696957, 4527991; 696945, 4527991; 696943, 4527992; 696940, 4527993; 696937, 4527994; 696934, 4527996; 696930, 4527996; 696924, 4527996; 696917, 4527996; 696911, 4527996; 696904, 4527994; 696899, 4527990; 696894, 4527985; 696887, 4527977; 696881, 4527965; 696876, 4527957; 696870, 4527944; 696864, 4527931; 696862, 4527922; 696858, 4527916; 696850, 4527906; 696850, 4527901; 696846, 4527891; 696840, 4527879; 696835, 4527869; 696825, 4527856; 696824, 4527855; 696872, 4527797; 696761, 4527763; 696356, 4527948; 696344, 4527943; 696334, 4527942; 696329, 4527943; 696321, 4527944; 696315, 4527946; 696276, 4527939; 696274, 4527938; 696269, 4527938; 696264, 4527936; 696256, 4527936; 696244, 4527936; 696235, 4527937; 696226, 4527940; 696217, 4527946; 696213, 4527954; 696210, 4527962; 696208, 4527973; 696206, 4527985; 696208, 4527996; 696212, 4528005; 696219, 4528017; 696224, 4528024; 696231, 4528032; 696239, 4528040; 696247, 4528048; 696251, 4528053; 696259, 4528081; 696257, 4528083; 696253, 4528084; 696247, 4528085; 696242, 4528086; 696229, 4528085; 696219, 4528091; 696213, 4528096; 696209, 4528101; 696204, 4528108; 696201, 4528114; 696198, 4528120; 696136, 4528145; 696001, 4528185; 695847, 4528311; 695845, 4528311; 695835, 4528310; 695827, 4528311; 695818, 4528315; 695811, 4528320; 695803, 4528325; 695789, 4528338; 695776, 4528351; 695770, 4528359; 695763, 4528367; 695747, 4528396; 695745, 4528408; 695747, 4528419; 695751, 4528430; 695757, 4528440; 695762, 4528448; 695773, 4528461; 695787, 4528477; 695795, 4528482; 695806, 4528491; 695808, 4528492; 695825, 4528576; 695777, 4528860; 695771, 4528866; 695764, 4528873; 695755, 4528879; 695747, 4528885; 695738, 4528892; 695733, 4528897; 695727, 4528903; 695723, 4528910; 695722, 4528911; 695720, 4528914; 695716, 4528917; 695715, 4528918; 695714, 4528919; 695700, 4528914; 695681, 4528930; 695672, 4528934; 695658, 4528938; 695649, 4528942; 695642, 4528946; 695638, 4528951; 695632, 4528953; 695626, 4528957; 695621, 4528960; 695611, 4528964; 695618, 4528976; 695622, 4528982; 695627, 4528989; 695633, 4528994; 695638, 4529000; 695647, 4529007; 695656, 4529011; 695666, 4529015; 695676, 4529020; 695685, 4529022; 695697, 4529024; 695709, 4529025; 695719, 4529027; 695728, 4529027; 695737, 4529028; 695746, 4529029; 695754, 4529028; 695760, 4529028; 695768, 4529026; 695775, 4529022; 695782, 4529016; 695786, 4529012; 695794, 4529004; 695798, 4528996; 695802, 4528989; 695804, 4528983; 695804, 4528978; 695806, 4528970; 695809, 4528963; 695810, 4528957; 695810, 4528954; 695822, 4528886; 695825, 4528870; 695827, 4528863; 695833, 4528852; 695839, 4528843; 695848, 4528836; 695857, 4528833; 695867, 4528833; 695878, 4528831; 695891, 4528827; 695900, 4528824; 695913, 4528822; 695926, 4528821; 695935, 4528820; 695945, 4528820; 695954, 4528822; 695963, 4528826; 695968, 4528831; 695974, 4528839; 695980, 4528847; 695984, 4528854; 695987, 4528862; 695990, 4528872; 695990, 4528884; 695989, 4528895; 695986, 4528909; 695984, 4528923; 695981, 4528937; 695977, 4528950; 695976, 4528962; 695977, 4528974; 695978, 4528980; 695980, 4528986; 695983, 4528991; 695986, 4528996; 695990, 4529000; 695994, 4529000; 696000, 4528997; 696004, 4528991; 696007, 4528986; 696014, 4528982; 696019, 4528983; 696026, 4528987; 696029, 4528994; 696031, 4528999; 696033, 4529001; 696038, 4529005; 696042, 4529005; 696044, 4529004; 696070, 4529040; 696070, 4529042; 696074, 4529048; 696079, 4529055; 696086, 4529060; 696094, 4529067; 696101, 4529072; 696108, 4529077; 696116, 4529083; 696138, 4529097; 696145, 4529105; 696151, 4529113; 696157, 4529123; 696162, 4529129; 696166, 4529136; 696170, 4529143; 696173, 4529151; 696178, 4529164; 696182, 4529176; 696184, 4529188; 696185, 4529203; 696187, 4529219; 696187, 4529234; 696186, 4529244; 696188, 4529269; 696187, 4529280; 696186, 4529296; 696186, 4529309; 696186, 4529320; 696187, 4529328; 696187, 4529339; 696190, 4529348; 696191, 4529354; 696191, 4529361; 696191, 4529365; 696192, 4529367; 696192, 4529371; 696192, 4529373; 696191, 4529382; 696192, 4529386; 696191, 4529389; 696191, 4529394; 696191, 4529398; 696185, 4529413; 696181, 4529426; 696183, 4529438; 696185, 4529448; 696190, 4529456; 696193, 4529459; 696198, 4529461; 696205, 4529462; 696215, 4529459; 696223, 4529454; 696230, 4529447; 696238, 4529440; 696246, 4529435; 696257, 4529436; 696266, 4529439; 696274, 4529444; 696276, 4529447; 696279, 4529450; 696282, 4529453; 696283, 4529453; 696283, 4529460; 696285, 4529466; 696287, 4529473; 696289, 4529484; 696291, 4529495; 696295, 4529505; 696301, 4529515; 696304, 4529520; 696310, 4529522; 696318, 4529522; 696327, 4529522; 696335, 4529523; 696349, 4529523; 696363, 4529524; 696376, 4529523; 696382, 4529523.

(ii) Tract 3b: 695565, 4528354; 695574, 4528353; 695580, 4528356; 695586, 4528359; 695593, 4528366; 695599, 4528367; 695606, 4528366; 695613, 4528361; 695619, 4528360; 695624, 4528359; 695632, 4528361; 695636, 4528361; 695641, 4528362; 695644, 4528361; 695663, 4528357; 695667, 4528353; 695675, 4528347; 695683, 4528338; 695693, 4528329; 695700, 4528322; 695707, 4528313; 695714, 4528306; 695722, 4528299; 695730, 4528293; 695741, 4528289; 695752, 4528286; 695763, 4528282; 695774, 4528277; 695782, 4528275; 695793, 4528271; 695802, 4528268; 695811, 4528263; 695814, 4528261; 695818, 4528260; 695822, 4528258; 695824, 4528256; 695826, 4528253; 695828, 4528245; 695826, 4528238; 695823, 4528232; 695822, 4528228; 695816, 4528219; 695813, 4528210; 695812, 4528203; 695811, 4528197; 695812, 4528189; 695814, 4528184; 695816, 4528179; 695821, 4528175; 695827, 4528170; 695832, 4528167; 695837, 4528167; 695842, 4528167; 695846, 4528165; 695846, 4528165; 695848, 4528159; 695942, 4528107; 695946, 4528107; 695954, 4528106; 695962, 4528102; 695966, 4528098; 695966, 4528094; 695966, 4528088; 695965, 4528083; 695963, 4528079; 695960, 4528069; 695958, 4528060; 695960, 4528050; 695963, 4528045; 695973, 4528042; 695981, 4528040; 695995, 4528039; 696008, 4528037; 696014, 4528033; 696021, 4528028; 696028, 4528022; 696037, 4528007; 696043, 4527992; 696046, 4527985; 696047, 4527977; 696047, 4527969; 696043, 4527964; 696034, 4527955; 696024, 4527948; 696014, 4527941; 696003, 4527934; 695996, 4527928; 695987, 4527924; 695979, 4527917; 695972, 4527911; 695966, 4527904; 695960, 4527891; 695954, 4527881; 695947, 4527866; 695939, 4527854; 695928, 4527841; 695919, 4527832; 695909, 4527827; 695899, 4527824; 695887, 4527822; 695876, 4527818; 695868, 4527809; 695864, 4527799; 695859, 4527786; 695854, 4527776; 695845, 4527766; 695836, 4527757; 695826, 4527751; 695811, 4527746; 695795, 4527744; 695783, 4527747; 695774, 4527753; 695768, 4527757; 695761, 4527761; 695751, 4527760; 695740, 4527755; 695731, 4527745; 695725, 4527736; 695718, 4527730; 695708, 4527729; 695698, 4527729; 695685, 4527732; 695676, 4527733; 695672, 4527733; 695669, 4527730; 695667, 4527728; 695654, 4527714; 695652, 4527711; 695649, 4527707; 695648, 4527699; 695646, 4527689; 695642, 4527680; 695638, 4527675; 695631, 4527673; 695625, 4527673; 695620, 4527675; 695617, 4527677; 695600, 4527673; 695590, 4527663; 695584, 4527659; 695575, 4527656; 695567, 4527654; 695559, 4527656; 695553, 4527658; 695547, 4527664; 695541, 4527673; 695536, 4527682; 695532, 4527693; 695529, 4527702; 695527, 4527706; 695522, 4527712; 695518, 4527718; 695514, 4527722; 695506, 4527725; 695496, 4527728; 695487, 4527733; 695483, 4527738; 695478, 4527750; 695476, 4527759; 695476, 4527768; 695477, 4527785; 695481, 4527799; 695485, 4527813; 695485, 4527827; 695485, 4527841; 695484, 4527866; 695482, 4527877; 695480, 4527888; 695478, 4527897; 695476, 4527906; 695472, 4527914; 695469, 4527921; 695462, 4527928; 695457, 4527936; 695450, 4527947; 695443, 4527956; 695438, 4527965; 695434, 4527974; 695430, 4527984; 695429, 4527991; 695429, 4528000; 695431, 4528012; 695432, 4528022; 695435, 4528042; 695436, 4528050; 695437, 4528058; 695437, 4528065; 695436, 4528070; 695434, 4528076; 695432, 4528080; 695428, 4528083; 695422, 4528086; 695414, 4528088; 695404, 4528090; 695395, 4528093; 695390, 4528094; 695383, 4528097; 695378, 4528100; 695373, 4528107; 695368, 4528118; 695365, 4528132; 695364, 4528144; 695363, 4528151; 695362, 4528155; 695360, 4528166; 695357, 4528172; 695354, 4528179; 695340, 4528211; 695337, 4528220; 695334, 4528228; 695332, 4528237; 695330, 4528244; 695329, 4528253; 695331, 4528261; 695332, 4528269; 695334, 4528275; 695336, 4528280; 695340, 4528284; 695343, 4528285; 695347, 4528287; 695353, 4528287; 695360, 4528288; 695371, 4528287; 695382, 4528284; 695393, 4528278; 695403, 4528271; 695412, 4528266; 695424, 4528264; 695434, 4528266; 695443, 4528270; 695450, 4528279; 695453, 4528289; 695457, 4528300; 695461, 4528308; 695466, 4528314; 695472, 4528320; 695476, 4528326; 695482, 4528336; 695489, 4528346; 695495, 4528354; 695502, 4528364; 695507, 4528368; 695515, 4528368; 695525, 4528365; 695533, 4528363; 695542, 4528361; 695555, 4528356; 695565, 4528354.

(iii) Tract 3c: 695160, 4528323; 695149, 4528321; 695141, 4528322; 695137, 4528325; 695132, 4528330; 695129, 4528332; 695119, 4528334; 695103, 4528336; 695093, 4528337; 695084, 4528340; 695076, 4528344; 695070, 4528348; 695064, 4528355; 695060, 4528363; 695058, 4528370; 695056, 4528380; 695055, 4528388; 695057, 4528396; 695062, 4528410; 695066, 4528420; 695072, 4528429; 695077, 4528435; 695083, 4528441; 695091, 4528446; 695098, 4528450; 695107, 4528452; 695115, 4528454; 695120, 4528455; 695127, 4528456; 695131, 4528455; 695139, 4528455; 695146, 4528453; 695150, 4528451; 695155, 4528448; 695167, 4528438; 695175, 4528426; 695180, 4528420; 695184, 4528417; 695187, 4528416; 695194, 4528412; 695204, 4528405; 695209, 4528403; 695218, 4528401; 695227, 4528401; 695236, 4528401; 695243, 4528400; 695252, 4528397; 695259, 4528393; 695264, 4528388; 695268, 4528381; 695269, 4528370; 695265, 4528362; 695260, 4528356; 695247, 4528349; 695237, 4528345; 695223, 4528343; 695209, 4528340; 695200, 4528337; 695190, 4528334; 695180, 4528330; 695169, 4528326; 695160, 4528323.

(iv) Tract 3d: 695576, 4528864; 695583, 4528864; 695587, 4528864; 695595, 4528864; 695602, 4528863; 695606, 4528862; 695608, 4528861; 695613, 4528857; 695628, 4528846; 695637, 4528842; 695645, 4528841; 695652, 4528840; 695660, 4528839; 695666, 4528838; 695673, 4528832; 695677, 4528826; 695681, 4528818; 695686, 4528807; 695690, 4528798; 695693, 4528790; 695696, 4528781; 695698, 4528771; 695698, 4528763; 695700, 4528752; 695703, 4528743; 695706, 4528737; 695710, 4528728; 695711, 4528721; 695710, 4528712; 695706, 4528705; 695697, 4528698; 695688, 4528695; 695675, 4528694; 695662, 4528694; 695648, 4528697; 695633, 4528700; 695616, 4528704; 695601, 4528706; 695588, 4528707; 695576, 4528704; 695562, 4528703; 695551, 4528704; 695541, 4528705; 695535, 4528708; 695531, 4528714; 695530, 4528725; 695533, 4528735; 695537, 4528741; 695545, 4528748; 695553, 4528751; 695563, 4528754; 695567, 4528757; 695571, 4528763; 695572.

(v) Note: Map of Unit 3 is provided at paragraph (7)(vi) of this entry.

* * * * *

Dated: March 4, 2009.
Jane Lyder,
Assistant Deputy Secretary, Department of the Interior.

[FR Doc. E9-9234 Filed 4-27-09; 8:45 am]

BILLING CODE 4310-55-P